FEDERAL COMMUNICATIONS COMMISSION

47 CFR Ch. I

Unified Agenda of Federal Regulatory and Deregulatory Actions—Fall 2012

AGENCY: Federal Communications Commission.

ACTION: Semiannual regulatory agenda.

SUMMARY: Twice a year, in spring and fall, the Commission publishes in the Federal Register a list in the Unified Agenda of those major items and other significant proceedings under development or review that pertain to the Regulatory Flexibility Act. See 5 U.S.C. 602. The Unified Agenda also provides the Code of Federal Regulations citations and legal authorities that govern these proceedings.

ADDRESSES: Federal Communications Commission, 445 12th Street SW., Washington, DC 20554.

FOR FURTHER INFORMATION CONTACT: Maura McGowan, Telecommunications Specialist, Federal Communications Commission, 445 12th Street SW., Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 96-1 or Docket No. 99-1). The abbreviation for the responsible bureau usually precedes the docket number, as in “MM Docket No. 96-222,” which indicates that the responsible bureau is the Mass Media Bureau (now the Media Bureau). A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
431 | Implementation of the Telecommunications Act of 1996; Access to Telecommunications Service, Telecommunications Equipment, and Customer Premises Equipment by Persons With Disabilities | 3060-AG58
432 | Rules and Regulations Implementing the Telephone Consumer Protection Act (TCPA) of 1991 (CG Docket No. 02-278) | 3060-AI14
433 | Rules and Regulations Implementing Section 225 of the Communications Act (Telecommunications Relay Service) (CG Docket No. 03-123) | 3060-AI15
434 | Consumer Information and Disclosure and Truth in Billing and Billing Format | 3060-AI61
435 | Closed-Captioning of Video Programming (Section 610 Review) | 3060-AI72
436 | Accessibility of Programming Providing Emergency Information | 3060-AI75
437 | Empowering Consumers to Avoid Bill Shock (Docket No. 10-207) | 3060-AJ51
438 | Empowering Consumers to Prevent and Detect Billing for Unauthorized Charges (“Cramming”) | 3060-AJ72
439 | Implementation of the Middle Class Tax Relief and Job Creation Act of 2012—Establishment of a Public Safety Answering Point Do-Not-Call Registry | 3060-AJ74
440 | Implementation of the Middle Class Tax Relief and Job Creation Act of 2012/Establishment of a Public Safety Answering Point Do-Not-Call Registry | 3060-AJ84

Office of Engineering and Technology—Long-Term Actions
Sequence No. | Title | Regulation Identifier No.
441 | New Advanced Wireless Services (ET Docket No. 00-258) | 3060-AH65
442 | Exposure to Radiofrequency Electromagnetic Fields | 3060-AI17
443 | Unlicensed Operation in the TV Broadcast Bands (ET Docket No. 04-186) | 3060-AI52
444 | Fixed and Mobile Services in the Mobile Satellite Service (ET Docket No. 10-142) | 3060-AJ46
445 | Innovation in the Broadcast Television Bands; ET Docket No. 10-235 | 3060-AJ57
446 | Radio Experimentation and Market Trials Under Part 5 of the Commission's Rules and Streamlining Other Related Rules; ET Docket No. 10-236 | 3060-AJ62
447 | Operation of Radar Systems in the 76-77 GHz Band; ET Docket No. 11-90 | 3060-AJ68

International Bureau—Long-Term Actions
Sequence No. | Title | Regulation Identifier No.
448 | Establishment of Rules and Policies for the Digital Audio Radio Satellite Service in the 2310-2360 MHz Frequency Band (IB Docket No. 95-91; GEN Docket No. 90-357) | 3060-AF93
449 | Space Station Licensing Reform (IB Docket No. 02-34) | 3060-AH98
450 | Reporting Requirements for U.S. Providers of International Telecommunications Services (IB Docket No. 04-112) | 3060-AI42
451 | Amendment of the Commission's Rules To Allocate Spectrum and Adopt Service Rules and Procedures To Govern the Use of Vehicle-Mounted Earth Stations (IB Docket No. 07-101) | 3060-AI90
452 | Review of Foreign Ownership Policies for Common Carrier and Aeronautical Radio Licensees Under Section 310(b)(4) of the Communications Act of 1934, as Amended; IB Docket No. 11-133 | 3060-AJ70
453 | International Settlements Policy Reform; IB Docket No. 11-80 | 3060-AJ77

Media Bureau—Long-Term Actions
Sequence No. | Title | Regulation Identifier No.
454 | Competitive Availability of Navigation Devices (CS Docket No. 97-80) | 3060-AG28
455 | Second Periodic Review of Rules and Policies Affecting the Conversion to DTV (MB Docket 03-15) | 3060-AH54
456 | Broadcast Ownership Rules | 3060-AH97
457 | Establishment of Rules for Digital Low-Power Television, Television Translator, and Television Booster Stations (MB Docket No. 03-185) | 3060-AI38
458 | Joint Sales Agreements in Local Television Markets (MB Docket No. 04-256) | 3060-AI55
459 | Program Access Rules—Sunset of Exclusive Contracts Prohibition and Examination of Programming Tying Arrangements (MB Docket Nos. 12-68, 07-198) | 3060-AI87
460 | Third Periodic Review of the Commission's Rules and Policies Affecting the Conversion to Digital Television (MB Docket No. 07-91) | 3060-AI89
461 | Broadcast Localism (MB Docket No. 04-233) | 3060-AJ04
462 | Creating a Low Power Radio Service (MM Docket No. 99-25) | 3060-AJ07
463 | Policies To Promote Rural Radio Service and To Streamline Allotment and Assignment Procedures (MB Docket No. 09-52) | 3060-AJ23
464 | Promoting Diversification of Ownership in the Broadcast Services (MB Docket No. 07-294) | 3060-AJ27
465 | Amendment of the Commission's Rules Related to Retransmission Consent; MB Docket No. 10-71 | 3060-AJ55
466 | Video Description: Implementation of the Twenty-First Century Communications and Video Accessibility Act of 2010; MB Docket No. 11-43 | 3060-AJ56
467 | Closed Captioning of Internet Protocol-Delivered Video Programming: Implementation of the Twenty-First Century Communications and Video Accessibility Act of 2010; MB Docket No. 11-154 | 3060-AJ67
468 | Basic Service Tier Encryption (MB Docket No. 11-169) | 3060-AJ76
469 | Noncommercial Educational Station Fundraising for Third-Party Non-Profit Organizations; MB Docket No. 12-106 | 3060-AJ79

Office of Managing Director—Long-Term Actions
Sequence No. | Title | Regulation Identifier No.
470 | Assessment and Collection of Regulatory Fees | 3060-AI79
471 | Amendment of Part 1 of the Commission's Rules, Concerning Practice and Procedure, Amendment of CORES Registration System; MD Docket No. 10-234 | 3060-AJ54

Public Safety and Homeland Security Bureau—Long-Term Actions
Sequence No. | Title | Regulation Identifier No.
472 | Revision of the Rules To Ensure Compatibility With Enhanced 911 Emergency Calling Systems | 3060-AG34
473 | Enhanced 911 Services for Wireline | 3060-AG60
474 | In the Matter of the Communications Assistance for Law Enforcement Act | 3060-AG74
475 | Development of Operational, Technical, and Spectrum Requirements for Public Safety Communications Requirements | 3060-AG85
476 | Implementation of 911 Act (CC Docket No. 92-105, WT Docket No. 00-110) | 3060-AH90
477 | Commission Rules Concerning Disruptions to Communications; PS Docket No. 11-82 | 3060-AI22
478 | E911 Requirements for IP-Enabled Service Providers; Dockets: GN 11-117, PS 07-114, WC 05-196, WC 04-36 | 3060-AI62
479 | Stolen Vehicle Recovery System (SVRS) | 3060-AJ01
480 | Commercial Mobile Alert System | 3060-AJ03
481 | Emergency Alert System | 3060-AJ33
482 | Wireless E911 Location Accuracy Requirements; PS Docket No. 07-114 | 3060-AJ52

Wireless Telecommunications Bureau—Long-Term Actions
Sequence No. | Title | Regulation Identifier No.
483 | Reexamination of Roaming Obligations of Commercial Mobile Radio Service Providers | 3060-AH83
484 | Review of Part 87 of the Commission's Rules Concerning Aviation (WT Docket No. 01-289) | 3060-AI35
485 | Implementation of the Commercial Spectrum Enhancement Act (CSEA) and Modernization of the Commission's Competitive Bidding Rules and Procedures (WT Docket No. 05-211) | 3060-AI88
486 | Facilitating the Provision of Fixed and Mobile Broadband Access, Educational, and Other Advanced Services in the 2150-2162 and 2500-2690 MHz Bands | 3060-AJ12
487 | Amendment of the Rules Regarding Maritime Automatic Identification Systems (WT Docket No. 04-344) | 3060-AJ16
488 | Service Rules for Advanced Wireless Services in the 2155-2175 MHz Band | 3060-AJ19
489 | Service Rules for Advanced Wireless Services in the 1915 to 1920 MHz, 1995 to 2000 MHz, 2020 to 2025 MHz, and 2175 to 2180 MHz Bands | 3060-AJ20
490 | Rules Authorizing the Operation of Low Power Auxiliary Stations in the 698-806 MHz Band, WT Docket No. 08-166; Public Interest Spectrum Coalition, Petition for Rulemaking Regarding Low Power Auxiliary | 3060-AJ21
491 | Amendment of the Commission's Rules To Improve Public Safety Communications in the 800 MHz Band, and To Consolidate the 800 MHz and 900 MHz Business and Industrial/Land Transportation Pool Channels | 3060-AJ22
492 | Amendment of Part 101 to Accommodate 30 MHz Channels in the 6525-6875 MHz Band and Provide Conditional Authorization on Channels in the 21.8-22.0 and 23.0-23.2 GHz Band (WT Docket No. 04-114) | 3060-AJ28
493 | In the Matter of Service Rules for the 698 to 746, 747 to 762, and 777 to 792 MHz Bands | 3060-AJ35
494 | National Environmental Act Compliance for Proposed Tower Registrations; In the Matter of Effects on Migratory Birds | 3060-AJ36
495 | Amendment of Part 90 of the Commission's Rules | 3060-AJ37
496 | Amendment of Part 101 of the Commission's Rules for Microwave Use and Broadcast Auxiliary Service Flexibility | 3060-AJ47
497 | 2004 and 2006 Biennial Regulatory Reviews—Streamlining and Other Revisions of the Commission's Rules Governing Construction, Marking, and Lighting of Antenna Structures | 3060-AJ50
498 | Universal Service Reform Mobility Fund (WT Docket No. 10-208) | 3060-AJ58
499 | Fixed and Mobile Services in the Mobile Satellite Service Bands at 1525-1559 MHz and 1626.5-1660.5 MHz, 1610-1626.5 MHz and 2483.5-2500 MHz, and 2000-2020 MHz and 2180-2200 MHz | 3060-AJ59
500 | Improving Spectrum Efficiency Through Flexible Channel Spacing and Bandwidth Utilization for Economic Area-Based 800 MHz Specialized Mobile Radio Licensees; WT Docket Nos. 12-64 and 11-110 | 3060-AJ71
501 | Service Rules for Advanced Wireless Services in the 2000-2020 MHz and 2180-2200 MHz Bands | 3060-AJ73
502 | Promoting Interoperability in the 700 MHz Commercial Spectrum; Interoperability of Mobile User Equipment Across Paired Commercial Spectrum Blocks in the 700 MHz Band | 3060-AJ78

Wireless Telecommunications Bureau—Completed Actions
Sequence No. | Title | Regulation Identifier No.
503 | Amendment of Parts 13 and 80 of the Commission's Rules Governing Maritime Communications | 3060-AH55

Wireline Competition Bureau—Long-Term Actions
Sequence No. | Title | Regulation Identifier No.
504 | Implementation of the Universal Service Portions of the 1996 Telecommunications Act | 3060-AF85
505 | 2000 Biennial Regulatory Review—Telecommunications Service Quality Reporting Requirements | 3060-AH72
506 | Access Charge Reform and Universal Service Reform | 3060-AH74
507 | National Exchange Carrier Association Petition | 3060-AI47
508 | IP-Enabled Services | 3060-AI48
509 | Establishing Just and Reasonable Rates for Local Exchange Carriers (WC Docket No. 07-135) | 3060-AJ02
510 | Jurisdictional Separations | 3060-AJ06
511 | Service Quality, Customer Satisfaction, Infrastructure and Operating Data Gathering (WC Docket Nos. 08-190, 07-139, 07-204, 07-273, 07-21) | 3060-AJ14
512 | Form 477; Development of Nationwide Broadband Data To Evaluate Reasonable and Timely Deployment of Advanced Services to All Americans | 3060-AJ15
513 | Preserving the Open Internet; Broadband Industry Practices | 3060-AJ30
514 | Local Number Portability Porting Interval and Validation Requirements (WC Docket No. 07-244) | 3060-AJ32
515 | Electronic Tariff Filing System (ETFS); WC Docket No. 10-141 | 3060-AJ41
516 | Implementation of Section 224 of the Act; A National Broadband Plan for Our Future; WC Docket No. 07-245, GN Docket No. 09-51 | 3060-AJ64

FEDERAL COMMUNICATIONS COMMISSION (FCC)

Consumer and Governmental Affairs Bureau

Long-Term Actions

431. Implementation of the Telecommunications Act of 1996; Access to Telecommunications Service, Telecommunications Equipment, and Customer Premises Equipment by Persons With Disabilities

Legal Authority: 47 U.S.C. 255; 47 U.S.C. 251(a)(2)

Abstract: These proceedings implement the provisions of sections 255 and 251(a)(2) of the Communications Act and related sections of the Telecommunications Act of 1996 regarding the accessibility of telecommunications equipment and services to persons with disabilities.

Timetable:

Action | Date | FR Cite
R&O | 08/14/96 | 61 FR 42181
NOI | 09/26/96 | 61 FR 50465
NPRM | 05/22/98 | 63 FR 28456
R&O | 11/19/99 | 64 FR 63235
Further NOI | 11/19/99 | 64 FR 63277
Public Notice | 01/07/02 | 67 FR 678
R&O | 08/06/07 | 72 FR 43546
Petition for Waiver | 11/01/07 | 72 FR 61813
Public Notice | 11/01/07 | 72 FR 61882
Final Rule | 04/21/08 | 73 FR 21251
Public Notice | 08/01/08 | 73 FR 45008
Extension of Waiver | 05/15/08 | 73 FR 28057
Extension of Waiver | 05/06/09 | 74 FR 20892
Public Notice | 05/07/09 | 74 FR 21364
Extension of Waiver | 07/29/09 | 74 FR 37624
NPRM | 03/14/11 | 76 FR 13800
NPRM Comment Period Extended | 04/12/11 | 76 FR 20297
FNPRM | 12/30/11 | 76 FR 82240
Comment Period End | 03/14/12 |
R&O | 12/30/11 | 76 FR 82354
Announcement of Effective Date | 04/25/12 | 77 FR 24632
Next Action Undetermined |  |

Regulatory Flexibility Analysis Required: Yes.

Agency Contact: Cheryl J. King, Deputy Chief, Disability Rights Office, Federal Communications Commission, Consumer and Governmental Affairs Bureau, 445 12th Street SW., Washington, DC 20554, Phone: 202 418-2284, TDD Phone: 202 418-0416, Fax: 202 418-0037, Email: cheryl.king@fcc.gov.

RIN: 3060-AG58

432. Rules and Regulations Implementing the Telephone Consumer Protection Act (TCPA) of 1991 (CG Docket No. 02-278)

Legal Authority: 47 U.S.C. 227

Abstract: On July 3, 2003, the Commission released a Report and Order establishing, along with the FTC, a national do-not-call registry. The Commission's Report and Order also adopted rules on the use of predictive dialers, the transmission of caller ID information by telemarketers, and the sending of unsolicited fax advertisements.

On September 21, 2004, the Commission released an Order amending existing safe harbor rules for telemarketers subject to the do-not-call registry to require such telemarketers to access the do-not-call list every 31 days, rather than every 3 months.

On April 5, 2006, the Commission adopted a Report and Order and Third Order on Reconsideration amending its facsimile advertising rules to implement the Junk Fax Protection Act of 2005. On October 14, 2008, the Commission released an Order on Reconsideration addressing certain issues raised in petitions for reconsideration and/or clarification of the Report and Order and Third Order on Reconsideration.

On January 4, 2008, the Commission released a Declaratory Ruling, clarifying that autodialed and prerecorded message calls to wireless numbers that are provided by the called party to a creditor in connection with an existing debt are permissible as calls made with the “prior express consent” of the called party.

Following a December 4, 2007, NPRM, on June 17, 2008, the Commission released a Report and Order amending its rules to require sellers and/or telemarketers to honor registrations with the National Do-Not-Call Registry indefinitely, unless the registration is cancelled by the consumer or the number is removed by the database administrator.

On January 22, 2010, the Commission released an NPRM proposing to require sellers and telemarketers to obtain express written consent from recipients before making autodialed or prerecorded telemarketing calls, commonly known as “robocalls,” even when the caller has an established business relationship with the consumer. The proposals also, among other things, would require that prerecorded telemarketing calls include an automated, interactive mechanism by which a consumer may “opt out” of receiving future prerecorded messages from a seller or telemarketer.

On February 15, 2012, the Commission released a Report and Order requiring telemarketers to obtain prior express written consent, including by electronic means, before making an autodialed or prerecorded telemarketing call to a wireless number or before making a prerecorded telemarketing call to a residential line; eliminating the “established business relationship” exemption to the consent requirement for prerecorded telemarketing calls to residential lines; requiring telemarketers to provide an automated, interactive “opt-out” mechanism during autodialed or prerecorded telemarketing calls to wireless numbers and during prerecorded telemarketing calls to residential lines; and requiring that the abandoned call rate for telemarketing calls be calculated on a “per-campaign” basis.

Timetable:

Action | Date | FR Cite
NPRM | 10/08/02 | 67 FR 62667
FNPRM | 04/03/03 | 68 FR 16250
Order | 07/25/03 | 68 FR 44144
Order Effective | 08/25/03 |
Order on Recon | 08/25/03 | 68 FR 50978
Order | 10/14/03 | 68 FR 59130
FNPRM | 03/31/04 | 69 FR 16873
Order | 10/08/04 | 69 FR 60311
Order | 10/28/04 | 69 FR 62816
Order on Recon | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Recon | 10/30/08 | 73 FR 64556
NPRM | 03/22/10 | 75 FR 13471
R&O (release date) | 02/15/12 |
Next Action Undetermined |  |

Regulatory Flexibility Analysis Required: Yes.

Agency Contact: Kurt Schroeder, Deputy Chief, Consumer Policy Div., Federal Communications Commission, Consumer and Governmental Affairs Bureau, 445 12th Street SW., Washington, DC 20554, Phone: 202 418-0966, Email: kurt.schroeder@fcc.gov.

RIN: 3060-AI14

433. Rules and Regulations Implementing Section 225 of the Communications Act (Telecommunications Relay Service) (CG Docket No. 03-123)

Legal Authority: 47 U.S.C. 151; 47 U.S.C. 154; 47 U.S.C. 225

Abstract: This proceeding established a new docket flowing from the previous telecommunications relay service (TRS) history, CC Docket No. 98-67. This proceeding continues the Commission's inquiry into improving the quality of TRS and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Recon | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Recon | 08/31/05 | 70 FR 51643
R&O | 08/31/05 | 70 FR 51649
Order | 09/14/05 | 70 FR 54294
Order | 09/14/05 | 70 FR 54298
Public Notice | 10/12/05 | 70 FR 59346
R&O/Order on Recon | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Recon | 07/06/06 | 71 FR 38268
Order on Recon | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Recon | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Deying Stay Motion (Release Date) | 07/09/10 |
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; announcement of effective date | 11/22/11 | 76 FR 72124
Proposed Rule (Public Notice) | 02/28/12 | 77 FR 11997
Comment Period End | 03/20/12 |
Proposed Rule (FNPRM) | 02/01/12 | 77 FR 4948
FNPRM Comment Period End | 02/28/12 |
First R&O | 07/25/12 | 77 FR 43538
Public Notice (release date) | 10/15/12 |
Comment Period End | 11/29/12 |
Next Action Undetermined |  |

Regulatory Flexibility Analysis Required: Yes.

Agency Contact: Karen Peltz Strauss, Deputy Chief, Consumer and Governmental Affairs Bureau, Federal Communications Commission, 445 12th Street SW., Washington, DC 20554, Phone: 202 418-2388, Email: karen.strauss@fcc.gov.

RIN: 3060-AI15

434. Consumer Information and Disclosure and Truth in Billing and Billing Format

Legal Authority: 47 U.S.C. 201; 47 U.S.C. 258

Abstract: In 1999, the Commission adopted truth-in-billing rules to address concerns that there is consumer confusion relating to billing for telecommunications services. On March 18, 2005, the Commission released an Order and FNPRM to further facilitate the ability of telephone consumers to make informed choices among competitive service offerings.

On August 28, 2009, the Commission released a Notice of Inquiry which asks questions about information available to consumers at all stages of the purchasing process for all communications services, including (1) Choosing a provider; (2) choosing a service plan; (3) managing use of the service plan; and (4) deciding whether and when to switch an existing provider or plan.

On October 14, 2010, the Commission released a Notice of Proposed Rulemaking proposing rules that would require mobile service providers to provide usage alerts and information that will assist consumers in avoiding unexpected charges on their bills.

On July 12, 2011, the Commission released an NPRM that would assist consumers in detecting and preventing the placement of unauthorized charges on their telephone bills, an unlawful and fraudulent practice, commonly referred to as “cramming.”

On April 27, 2012, the Commission adopted rules to address “cramming” on wireline telephone bills and released an FNPRM seeking comment on additional measures.

Timetable:

Action | Date | FR Cite
FNPRM | 05/25/05 | 70 FR 30044
R&O | 05/25/05 | 70 FR 29979
NOI | 08/28/09
Public Notice | 05/20/10 | 75 FR 28249
Public Notice | 06/11/10 | 75 FR 33303
NPRM | 11/26/10 | 75 FR 72773
NPRM | 08/23/11 | 76 FR 52625
NPRM Comment Period End | 11/21/11
R&O and FNPRM | 04/27/12 | 77 FR 30972
Next Action Undetermined

Regulatory Flexibility Analysis Required: Yes.

Agency Contact: John B. Adams, Attorney Advisor, Federal Communications Commission, 445 12th Street SW., Washington, DC 20554, Phone: 202 418-2854, Email: johnb.adams@fcc.gov.

RIN: 3060-AI61

435. Closed-Captioning of Video Programming (Section 610 Review)

Legal Authority: 47 U.S.C. 613

Abstract: The Commission's closed-captioning rules are designed to make video programming more accessible to deaf and hard-of-hearing Americans. This proceeding resolves some issues regarding the Commission's closed-captioning rules that were raised for comment in 2005, and also seeks comment on how a certain exemption from the closed-captioning rules should be applied to digital multicast broadcast channels.

Timetable:

Action | Date | FR Cite
NPRM | 02/03/97 | 62 FR 4959
R&O | 09/16/97 | 62 FR 48487
Order on Recon | 10/28/98 | 63 FR 55959
NPRM | 09/26/05 | 70 FR 56150
Order and Declaratory Ruling | 01/13/09 | 74 FR 1594
NPRM | 01/13/09 | 74 FR 1654
Final Rule Correction | 09/11/09 | 74 FR 46703
Final Rule Announcement of Effective Date | 02/19/10 | 75 FR 7370
Order | 02/19/10 | 75 FR 7368
Order Suspending Effective Date | 02/19/10 | 75 FR 7369
Waiver Order | 10/04/10 | 75 FR 61101
Public Notice | 11/17/10 | 75 FR 70168
Interim Final Rule (Order) | 11/01/11 | 76 FR 67376
Final Rule (MO&O) | 11/01/11 | 76 FR 67377
NPRM | 11/01/11 | 76 FR 67397
NPRM Comment Period End | 12/16/11
Public Notice | 05/04/12 | 77 FR 26550
Next Action Undetermined

Regulatory Flexibility Analysis Required: Yes.

Agency Contact: Eliot Greenwald, Consumer & Governmental Affairs Bureau, Federal Communications Commission, 445 12th Street SW., Washington, DC 20554, Phone: 202 418-2235, Email: eliot.greenwald@fcc.gov.

RIN: 3060-AI72

436. Accessibility of Programming Providing Emergency Information

Legal Authority: 47 U.S.C. 613

Abstract: In this proceeding, the Commission adopted rules detailing how video programming distributors must make emergency information accessible to persons with hearing and visual disabilities.

Timetable:

Action | Date | FR Cite
FNPRM | 01/21/98 | 63 FR 3070
NPRM | 12/01/99 | 64 FR 67236
NPRM Correction | 12/22/99 | 64 FR 71712
Second R&O | 05/09/00 | 65 FR 26757
R&O | 09/11/00 | 65 FR 54805
Next Action Undetermined

Regulatory Flexibility Analysis Required: Yes.

Agency Contact: Eliot Greenwald, Consumer & Governmental Affairs Bureau, Federal Communications Commission, 445 12th Street SW., Washington, DC 20554, Phone: 202 418-2235, Email: eliot.greenwald@fcc.gov.

RIN: 3060-AI75

437. Empowering Consumers To Avoid Bill Shock (Docket No. 10-207)

Legal Authority: 47 U.S.C. 201; 47 U.S.C. 303; 47 U.S.C. 332

Abstract: On October 14, 2010, the Commission released a Notice of Proposed Rulemaking which proposes a rule that would require mobile service providers to provide usage alerts and information that will assist consumers in avoiding unexpected charges on their bills.

Timetable:

Action | Date | FR Cite
Public Notice | 05/20/10 | 75 FR 28249
NPRM | 11/26/10 | 75 FR 72773
Next Action Undetermined

Regulatory Flexibility Analysis Required: Yes.

Agency Contact: Richard D. Smith, Special Counsel, Consumer Policy Div., Federal Communications Commission, Consumer and Governmental Affairs Bureau, 445 12th Street SW., Washington, DC 20554, Phone: 717 338-2797, Fax: 717 338-2574, Email: richard.smith@fcc.gov.

RIN: 3060-AJ51

438. Empowering Consumers To Prevent and Detect Billing for Unauthorized Charges (“Cramming”)

Legal Authority: 47 U.S.C. 201; 47 U.S.C. 301; 47 U.S.C. 303; 47 U.S.C. 332

Abstract: On July 12, 2011, the Commission released a Notice of Proposed Rulemaking proposing rules that would assist consumers in detecting and preventing the placement of unauthorized charges on telephone bills, an unlawful and fraudulent practice commonly referred to as “cramming.”

On April 27, 2012, the Commission adopted rules to address “cramming” on wireline telephone bills and released an FNPRM seeking comment on additional measures.

Timetable:

Action | Date | FR Cite
NPRM | 08/23/11 | 76 FR 52625
NPRM Comment Period End | 11/21/11
R&O and FNPRM | 04/27/12 | 77 FR 30972
Next Action Undetermined

Regulatory Flexibility Analysis Required: Yes.

Agency Contact: John B. Adams, Attorney Advisor, Federal Communications Commission, 445 12th Street SW., Washington, DC 20554, Phone: 202 418-2854, Email: johnb.adams@fcc.gov.

RIN: 3060-AJ72

439. Implementation of the Middle Class Tax Relief and Job Creation Act of 2012—Establishment of a Public Safety Answering Point Do-Not-Call Registry

Legal Authority: Pub. L. 112-96, sec 6507

Abstract: The Commission must issue, by May 22, 2012, an NPRM to initiate a proceeding to create a Do-Not-Call registry for public safety answer points (PSAPs), as required by section 6507 of the Middle Class Tax Relief and Job Creation Act of 2012. The statute requires the Commission to: establish a registry that allows PSAPs to register their telephone numbers on a do-not-call list; prohibit the use of automatic dialing equipment to contact registered numbers; and implement a range of monetary penalties for disclosure of registered numbers and for use of automatic dialing equipment to contact such numbers.

Timetable:

Action | Date | FR Cite
NPRM | 06/21/12 | 77 FR 37362
R&O (release date) | 10/17/12
Next Action Undetermined

Regulatory Flexibility Analysis Required: Yes.

Agency Contact: Richard D. Smith, Special Counsel, Consumer Policy Div., Federal Communications Commission, Consumer and Governmental Affairs Bureau, 445 12th Street SW., Washington, DC 20554, Phone: 717 338-2797, Fax: 717 338-2574, Email: richard.smith@fcc.gov.

RIN: 3060-AJ74

440. • Implementation of the Middle Class Tax Relief and Job Creation Act of 2012/Establishment of a Public Safety Answering Point Do-Not-Call Registry

Legal Authority: Pub. L. 112-96 sec 6507

Abstract: The Commission issued, on May 22, 2012, an NPRM to initiate a proceeding to create a Do-Not-Call registry for public safety answer points (PSAPs), as required by section 6507 of the Middle Class Tax Relief and Job Creation Act of 2012. The statute requires the Commission to establish a registry that allows PSAPs to register their telephone numbers on a do-not-call list; prohibit the use of automatic dialing equipment to contact registered numbers; and implement a range of monetary penalties for disclosure of registered numbers and for use of automatic dialing equipment to contact such numbers. On October 17, 2012, the commission adopted final rules implementing the statutory requirements described above.

Timetable:

Action | Date | FR Cite
NPRM (release date) | 05/22/12
R&O (release date) | 10/17/12
Next Action Undetermined

Regulatory Flexibility Analysis Required: Yes.

Agency Contact: Richard D. Smith, Special Counsel, Consumer Policy Div., Federal Communications Commission, Consumer and Governmental Affairs Bureau, 445 12th Street SW., Washington, DC 20554, Phone: 717 338-2797, Fax: 717 338-2574, Email: richard.smith@fcc.gov.

RIN: 3060-AJ84

FEDERAL COMMUNICATIONS COMMISSION (FCC)

Office of Engineering and Technology

Long-Term Actions

441. New Advanced Wireless Services (ET Docket No. 00-258)

Legal Authority: 47 U.S.C. 154(i); 47 U.S.C. 157(a); 47 U.S.C. 303(c); 47 U.S.C. 303(f); 47 U.S.C. 303(g); 47 U.S.C. 303(r)

Abstract: This proceeding explores the possible uses of frequency bands below 3 GHz to support the introduction of new advanced wireless services, including third generations as well as future generations of wireless systems. Advanced wireless systems could provide for a wide range of voice data and broadband services over a variety of mobile and fixed networks.

The Third Notice of Proposed Rulemaking discusses the frequency bands that are still under consideration in this proceeding and invites additional comments on their disposition. Specifically, it addresses the Unlicensed Personal Communications Service (UPCS) band at 1910-1930 MHz, the Multipoint Distribution Service (MDS) spectrum at 2155-2160/62 MHz bands, the Emerging Technology spectrum, at 2160-2165 MHz, and the bands reallocated from MSS 91990-2000 MHz, 2020-2025 MHz, and 2165-2180 MHz. We seek comment on these bands with respect to using them for paired or unpaired Advance Wireless Service (AWS) operations or as relocation spectrum for existing services.

The seventh Report and Order facilitates the introduction of Advanced Wireless Service (AWS) in the band 1710-1755 MHz—an integral part of a 90 MHz spectrum allocation recently reallocated to allow for such new and innovative wireless services. We largely adopt the proposals set forth in our recent AWS Fourth NPRM in this proceeding that are designed to clear the 1710-1755 MHz band of incumbent Federal Government operations that would otherwise impede the development of new nationwide AWS services. These actions are consistent with previous actions in this proceeding and with the United States Department of Commerce, National Telecommunications and Information Administration (NTIA) 2002 Viability Assessment, which addressed relocation and reaccommodation options for Federal Government operations in the band.

The eighth Report and Order reallocated the 2155-2160 MHz band for fixed and mobile services and designates the 2155-2175 MHz band for Advanced Wireless Service (AWS) use. This proceeding continues the Commission's ongoing efforts to promote spectrum utilization and efficiency with regard to the provision of new services, including Advanced Wireless Services.

The Order requires Broadband Radio Service (BRS) licensees in the 2150-2160/62 MHz band to provide information on the construction status and operational parameters of each incumbent BRS system that would be the subject of relocation.

The Notice of Proposed Rule Making requested comments on the specific relocation procedures applicable to Broadband Radio Service (BRS) operations in the 2150-2160/62 MHz band, which the Commission recently decided will be relocated to the newly restructured 2495-2690 MHz band. The Commission also requested comments on the specific relocation procedures applicable to Fixed Microwave Service (FS) operations in the 2160-2175 MHz band.

The Office of Engineering and Technology (OET) and the Wireless Telecommunications Bureau (WTB) set forth the specific data that Broadband Radio Service (BRS) licensees in the 2150-2160/62 MHz band must file along with the deadline date and procedures for filing this data on the Commission's Universal Licensing System (ULS). The data will assist in determining future AWS licensees' relocation obligations.

The ninth Report and Order established procedures for the relocation of Broadband Radio Service (BRS) operations from the 2150-2160/62 MHz band, as well as for the relocation of Fixed Microwave Service (FS) operations from the 2160-2175 MHz band, and modified existing relocation procedures for the 2110-2150 MHz and 2175-2180 MHz bands. It also established cost-sharing rules to identify the reimbursement obligations for Advanced Wireless Service (AWS) and Mobile Satellite Service (MSS) entrants benefiting from the relocation of incumbent FS operations in the 2110-2150 MHz and 2160-2200 MHz bands and AWS entrants benefiting from the relocation of BRS incumbents in the 2150-2160/62 MHz band. The Commission continues its ongoing efforts to promote spectrum utilization and efficiency with regard to the provision of new services, including AWS. The Order dismisses a petition for reconsideration filed by the Wireless Communications Association International, Inc. (WCA) as moot.

Two petitions for Reconsideration were filed in response to the ninth Report and Order.

The Report and Orders and Declaratory Ruling concludes the Commission's longstanding efforts to relocate the Broadcast Auxiliary Service (BAS) from the 1990-2110 MHz band to the 2025-2110 MHz band, freeing up 35 megahertz of spectrum in order to foster the development of new and innovative services. This decision addresses the outstanding matter of Sprint Nextel Corporation's (Sprint Nextel) inability to agree with Mobile Satellite Service (MSS) operators in the band on the sharing of the costs to relocate the BAS incumbents. To resolve this controversy, the Commission applied its time-honored relocation principles for emerging technologies previously adopted for the BAS band to the instant relocation process, where delays and unanticipated developments have left ambiguities and misconceptions among the relocating parties. In the process, the Commission balances the responsibilities for and benefits of relocating incumbent BAS operations among all the new entrants in the different services that will operate in the band.

The Commission proposed to modify its cost sharing requirements for the 2 GHz BAS band because the circumstances surrounding the BAS transition are very different than what was expected when the cost sharing requirements were adopted. The Commission believed that the best course of action was to propose new requirements that would address the ambiguity of applying the literal language of the current requirements to the changed circumstances, as well as balance the responsibilities for and benefits of relocating incumbent BAS operations among all new entrants in the band based on the Commission's relocation policies set forth in the Emerging Technologies proceeding.

The Commission proposed to eliminate, as of January 1, 2009, the requirement that Broadcast Auxiliary Service (BAS) licensees in the thirty largest markets and fixed BAS links in all markets be transitioned before the Mobile Satellite Service (MSS) operators can begin offering service. The Commission also sought comments on how to mitigate interference between new MSS entrants and incumbent BAS licensees who had not completed relocation before the MSS entrants begin offering service. In addition, the Commission sought comments on allowing MSS operators to begin providing service in those markets where BAS incumbents have been transitioned.

Timetable:

Action | Date | FR Cite
NPRM | 01/23/01 | 66 FR 7438
NPRM Comment Period End | 03/09/01
Final Report | 04/11/01 | 66 FR 18740
FNPRM | 09/13/01 | 66 FR 47618
MO&O | 09/13/01 | 66 FR 47591
First R&O | 10/25/01 | 66 FR 53973
Petition for Recon | 11/02/01 | 66 FR 55666
Second R&O | 01/24/03 | 68 FR 3455
Third NPRM | 03/13/03 | 68 FR 12015
Seventh R&O | 12/29/04 | 69 FR 7793
Petition for Recon | 04/13/05 | 70 FR 19469
Eighth R&O | 10/26/05 | 70 FR 61742
Order | 10/26/05 | 70 FR 61742
NPRM | 10/26/05 | 70 FR 61752
Public Notice | 12/14/05 | 70 FR 74011
Ninth R&O and Order | 05/24/06 | 71 FR 29818
Petition for Recon | 07/19/06 | 71 FR 41022
5th R&O, 11th R&O, 6th R&O, and Declaratory Ruling | 11/02/10 | 75 FR 67227
R&O and NPRM | 06/23/09 | 74 FR 29607
FNPRM | 03/31/08 | 73 FR 16822
Next Action Undetermined

Regulatory Flexibility Analysis Required: Yes.

Agency Contact: Rodney Small, Economist, Federal Communications Commission, Office of Engineering and Technology, 445 12th Street SW., Washington, DC 20554, Phone: 202 418-2452 Fax: 202 418-1944 Email: rodney.small@fcc.gov.

RIN: 3060-AH65

442. Exposure to Radiofrequency Electromagnetic Fields

Legal Authority: 47 U.S.C. 151; 47 U.S.C. 302 and 303; 47 U.S.C. 309(j); 47 U.S.C. 336

Abstract: The Notice of Proposed Rulemaking (NPRM) proposed amendments to the FCC rules relating to compliance of transmitters and facilities with guidelines for human exposure to radio frequency (RF) energy.

Timetable:

Action | Date | FR Cite
NPRM | 09/08/03 | 68 FR 52879
NPRM Comment Period End | 12/08/03
Next Action Undetermined

Regulatory Flexibility Analysis Required: Yes.

Agency Contact: Ira Keltz, Electronics Engineer, Federal Communications Commission, Office of Engineering and Technology, 445 12th Street SW., Washington, DC 20554, Phone: 202 418-0616, Fax: 202 418-1944, Email: ikeltz@fcc.gov.

RIN: 3060-AI17

443. Unlicensed Operation in the TV Broadcast Bands (ET Docket No. 04-186)

Legal Authority: 47 U.S.C. 154(i); 47 U.S.C. 302; 47 U.S.C. 303(e) and 303(f); 47 U.S.C. 303(r); 47 U.S.C. 307

Abstract: The Commission adopted rules to allow unlicensed radio transmitters to operate in the broadcast television spectrum at locations where that spectrum is not being used by licensed services (this unused TV spectrum is often termed “white spaces”). This action will make a significant amount of spectrum available for new and innovative products and services, including broadband data and other services for businesses and consumers. The actions taken are a conservative first step that includes many safeguards to prevent harmful interference to incumbent communications services. Moreover, the Commission will closely oversee the development and introduction of these devices to the market and will take whatever actions may be necessary to avoid, and if necessary correct, any interference that may occur.

The Second Memorandum Opinion and Order finalizes rules to make the unused spectrum in the TV bands available for unlicensed broadband wireless devices. This particular spectrum has excellent propagation characteristics that allow signals to reach farther and penetrate walls and other structures. Access to this spectrum could enable more powerful public Internet connections—super Wi-Fi hot spots—with extended range, fewer dead spots, and improved individual speeds as a result of reduced congestion on existing networks. This type of “opportunistic use” of spectrum has great potential for enabling access to other spectrum bands and improving spectrum efficiency. The Commission's actions here are expected to spur investment and innovation in applications and devices that will be used not only in the TV band but eventually in other frequency bands as well.

Timetable:

Action | Date | FR Cite
NPRM | 06/18/04 | 69 FR 34103
First R&O | 11/17/06 | 71 FR 66876
FNPRM | 11/17/06 | 71 FR 66897
R&O and MO&O | 02/17/09 | 74 FR 7314
Petitions for Reconsideration | 04/13/09 | 74 FR 16870
Second MO&O | 12/06/10 | 75 FR 75814
Petitions for Recon | 02/09/11 | 76 FR 7208
Next Action Undetermined

Regulatory Flexibility Analysis Required: Yes.

Agency Contact: Hugh Van Tuyl, Electronics Engineer, Federal Communications Commission, Office of Engineering and Technology, 445 12th Street SW., Washington, DC 20554, Phone: 202 418-7506, Fax: 202 418-1944, Email: hugh.vantuyl@fcc.gov.

RIN: 3060-AI52

444. Fixed and Mobile Services in the Mobile Satellite Service (ET Docket No. 10-142)

Legal Authority: 47 U.S.C. 154(i) and 301; 47 U.S.C. 303(c) and 303(f); 47 U.S.C. 303(r) and 303(y); 47 U.S.C. 310

Abstract: The Notice of Proposed Rulemaking proposed to take a number of actions to further the provision of terrestrial broadband services in the MSS bands. In the 2 GHz MSS band, the Commission proposed to add co-primary Fixed and Mobile allocations to the existing Mobile-Satellite allocation. This would lay the groundwork for providing additional flexibility in use of the 2 GHz spectrum in the future. The Commission also proposed to apply the terrestrial secondary market spectrum leasing rules and procedures to transactions involving terrestrial use of the MSS spectrum in the 2 GHz, Big LEO, and L-bands in order to create greater certainty and regulatory parity with bands licensed for terrestrial broadband service.

The Commission also asked, in a Notice of Inquiry, about approaches for creating opportunities for full use of the 2 GHz band for stand-alone terrestrial uses. The Commission requested comment on ways to promote innovation and investment throughout the MSS bands while also ensuring market-wide mobile satellite capability to serve important needs like disaster recovery and rural access.

In the Report and Order the Commission amended its rules to make additional spectrum available for new investment in mobile broadband networks while also ensuring that the United States maintains robust mobile satellite service capabilities. First, the Commission adds co-primary Fixed and Mobile allocations to the Mobile Satellite Service (MSS) 2 GHz band, consistent with the International Table of Allocations, allowing more flexible use of the band, including for terrestrial broadband services, in the future. Second, to create greater predictability and regulatory parity with the bands licensed for terrestrial mobile broadband service, the Commission extends its existing secondary market spectrum manager spectrum leasing policies, procedures, and rules that currently apply to wireless terrestrial services to terrestrial services provided using the Ancillary Terrestrial Component (ATC) of an MSS system.

Petitions for Reconsideration have been filed in the Commission's rulemaking proceeding concerning Fixed and Mobile Services in the Mobile Satellite Service Bands at 1525-1559 MHz and 1626.5-1660.5 MHz, 1610-1626.5 MHz and 2483.5-2500 MHz, and 2000-2020 MHz and 2180-2200 MHz, and published pursuant to 47 CFR 1.429(e). See 1.4(b)(1) of the Commission's rules.

Timetable:

Action | Date | FR Cite
NPRM | 08/16/10 | 75 FR 49871
NPRM Comment Period End | 09/15/10
Reply Comment Period End | 09/30/10
R&O | 05/31/11 | 76 FR 31252
Petitions for Recon | 08/10/11 | 76 FR 49364
Next Action Undetermined

Regulatory Flexibility Analysis Required: Yes.

Agency Contact: Nicholas Oros, Electronics Engineer, Federal Communications Commission, 445 12th Street SW., Washington, DC 20554, Phone: 202 418-0636, Email: nicholas.oros@fcc.gov.

RIN: 3060-AJ46

445. Innovation in the Broadcast Television Bands; ET Docket No. 10-235

Legal Authority: 47 U.S.C. 154(i); 47 U.S.C. 301; 47 U.S.C. 302; 47 U.S.C. 303(e); 47 U.S.C. 303(f); 47 U.S.C. 303(r)

Abstract: The Commission initiated this proceeding to further its ongoing commitment to addressing America's growing demand for wireless broadband services, to spur ongoing innovation and investment in mobile technology, and to ensure that America keeps pace with the global wireless revolution by making a significant amount of new spectrum available for broadband. The approach proposed is consistent with the goal set forth in the National Broadband Plan (the Plan) to repropose up to 120 megahertz from the broadcast television bands for new wireless broadband uses through, in part, voluntary contributions of spectrum to an incentive auction. Reallocation of this spectrum as proposed will provide the necessary flexibility for meeting the requirements of these new applications.

In the Report and Order, the Commission took preliminary steps toward making a significant portion of the UHF and VHF frequency bands (U/V Bands) currently used by the broadcast television service available for new uses. This action serves to further address the nation's growing demand for wireless broadband services, promote the ongoing innovation and investment in mobile communications, and ensure that the United States keeps pace with the global wireless revolution. At the same time, the approach helps preserve broadcast television as a healthy, viable medium and would be consistent with the general proposal set forth in the National Broadband Plan to repurpose spectrum from the U/V bands for new wireless broadband uses through, in part, voluntary contributions of spectrum to an incentive auction. This action is consistent with the recent enactment by Congress of new incentive auction authority for the Commission (Spectrum Act). Specifically, this item sets out a framework by which two or more television licensees may share a single six MHz channel in connection with an incentive auction.

However, the Report and Order did not act on the proposals in the Notice of Proposed Rulemaking to establish fixed and mobile allocations in the U/V bands or to improve TV service on VHF channels. The Report and Order stated that the Commission will undertake a broader rulemaking to implement the Spectrum Act's provisions relating to an incentive auction for U/V band spectrum, and that it believes it will be more efficient to act on new allocations in the context of that rulemaking. In addition, the record created in response to the Notice of Proposed Rulemaking does not establish a clear way forward to significantly increase the utility of the VHF bands for the operation of television services. The Report and Order states that the Commission will revisit this matter in a future proceeding.

Timetable:

Action | Date | FR Cite
NPRM | 02/01/11 | 76 FR 5521
NPRM Comment Period End | 03/18/11
R&O | 05/23/12 | 77 FR 30423
Next Action Undetermined

Regulatory Flexibility Analysis Required: Yes.

Agency Contact: Alan Stillwell, Deputy Chief, OET, Federal Communications Commission, Office of Engineering and Technology, 445 12th Street SW., Washington, DC 20554, Phone: 202 418-2925, Email: alan.stillwell@fcc.gov.

RIN: 3060-AJ57

446. Radio Experimentation and Market Trials Under Part 5 of the Commission's Rules and Streamlining Other Related Rules; ET Docket No. 10-236

Legal Authority: 47 U.S.C. 154(i); 47 U.S.C. 301 and 303

Abstract: The Commission initiated this proceeding to promote innovation and efficiency in spectrum use in the Experimental Radio Service (ERS). For many years, the ERS has provided fertile ground for testing innovative ideas that have led to new services and new devices for all sectors of the economy. The Commission proposes to leverage the power of experimental radio licensing to accelerate the rate at which these ideas transform from prototypes to consumer devices and services. Its goal is to inspire researchers to dream, discover, and deliver the innovations that push the boundaries of the broadband ecosystem. The resulting advancements in devices and services available to the American public and greater spectrum efficiency over the long term will promote economic growth, global competitiveness, and a better way of life for all Americans.

Timetable:

Action | Date | FR Cite
NPRM | 02/08/11 | 76 FR 6928
NPRM Comment Period End | 03/10/11
Next Action Undetermined

Regulatory Flexibility Analysis Required: Yes.

Agency Contact: James Burtle, Chief, Experimental Licensing Branch, Federal Communications Commission, 445 12th Street SW., Washington, DC 20554, Phone: 202 418-2445, Email: james.burtle@fcc.gov.

RIN: 3060-AJ62

447. Operation of Radar Systems in the 76-77 GHz Band; ET Docket No. 11-90

Legal Authority: 47 U.S.C. 151; 47 U.S.C. 152; 47 U.S.C. 154(i); 47 U.S.C. 301; 47 U.S.C. 302; 47 U.S.C. 303(f)

Abstract: The Commission proposes to amend its rules to enable enhanced vehicular radar technologies in the 76-77 GHz band to improve collision avoidance and driver safety. Vehicular radars can determine the exact distance and relative speed of objects in front of, beside, or behind a car to improve the driver's ability to perceive objects under bad visibility conditions or objects that are in blind spots. These modifications to the rules will provide more efficient use of spectrum, and enable the automotive and fixed radar application industries to develop enhanced safety measures for drivers and the general public. The Commission takes this action in response to petitions for rulemaking filed by Toyota Motor Corporation (“TMC”) and Era Systems Corporation (“Era”).

This Report and Order amends the Commission's rules to provide a more efficient use of the 76-77 GHz band, and to enable the automotive and aviation industries to develop enhanced safety measures for drivers and the general public. Specifically, the Commission has eliminated the in-motion and not-in-motion distinction for vehicular radars, and instead adopted new uniform emission limits for forward, side, and rear-looking vehicular radars. This will facilitate enhanced vehicular radar technologies to improve collision avoidance and driver safety. The Commission also amended its rules to allow the operation of fixed radars at airport locations in the 76-77 GHz band for purposes of detecting foreign object debris on runways and monitoring aircraft and service vehicles on taxiways and other airport vehicle service areas that have no public vehicle access. The Commission took this action in response to petitions for rulemaking filed by Toyota Motor Corporation (“TMC”) and Era Systems Corporation (“Era”).

Timetable:

Action | Date | FR Cite
NPRM | 06/16/11 | 76 FR 35176
R&O | 08/13/12 | 77 FR 48097
Next Action Undetermined

Regulatory Flexibility Analysis Required: Yes.

Agency Contact: Aamer Zain, Federal Communications Commission, 445 12th Street SW., Washington, DC 20554, Phone: 202 418-2437, Email: aamer.zain@fcc.gov.

RIN: 3060-AJ68

FEDERAL COMMUNICATIONS COMMISSION (FCC)

International Bureau

Long-Term Actions

448. Establishment of Rules and Policies for the Digital Audio Radio Satellite Service in the 2310-2360 MHz Frequency Band (IB Docket No. 95-91; GEN Docket No. 90-357)

Legal Authority: 47 U.S.C. 151; 47 U.S.C. 151(i); 47 U.S.C. 154(j); 47 U.S.C. 157; 47 U.S.C. 309(j)

Abstract: In 1997, the Commission adopted service rules for the satellite digital audio radio service (SDARS) in the 2320-2345 MHz frequency band and sought further comment on proposed rules governing the use of complementary SDARS terrestrial repeaters. The Commission released a second further notice of proposed rulemaking in January 2008, to consider new proposals for rules to govern terrestrial repeaters operations. The Commission released a Second Report and Order on May 20, 2010, which adopted rules governing the operation of SDARS terrestrial repeaters, including establishing a blanket licensing regime for repeaters operating up to 12 kilowatts average equivalent isotropically radiated power.

Timetable:

Action | Date | FR Cite
NPRM | 06/15/95 | 60 FR 35166
R&O | 03/11/97 | 62 FR 11083
FNPRM | 04/18/97 | 62 FR 19095
Second FNPRM | 01/15/08 | 73 FR 2437
FNPRM Comment Period End | 03/17/08
2nd R&O | 05/20/10 | 75 FR 45058
Next Action Undetermined

Regulatory Flexibility Analysis Required: Yes.

Agency Contact: Jay Whaley, Attorney, Federal Communications Commission, International Bureau, 445 12th Street SW., Washington, DC 20554, Phone: 202 418-7184, Fax: 202 418-0748, Email: jwhaley@fcc.gov.

RIN: 3060-AF93

449. Space Station Licensing Reform (IB Docket No. 02-34)

Legal Authority: 47 U.S.C. 154(i); 47 U.S.C. 157; 47 U.S.C. 303(c); 47 U.S.C. 303(g); * * *

Abstract: The Commission adopted a Notice of Proposed Rulemaking (NPRM) to streamline its procedures for reviewing satellite license applications. Before 2003, the Commission used processing rounds to review those applications. In a processing round, when an application is filed, the International Bureau (Bureau) issued a public notice establishing a cutoff date for other mutually exclusive satellite applications, and then considered all those applications together. In cases where sufficient spectrum to accommodate all the application was not available, the Bureau directed the applicants to negotiate a mutually agreeable solution. Those negotiations took a long time, and delayed provision of satellite services to the public.

The NPRM invited comment on two alternatives for expediting the satellite application process. One alternative was to replace the processing round procedure with a “first-come, first-served” procedure that would allow the Bureau to issue a satellite license to the first party filing a complete, acceptable application. The other alternative was to streamline the processing round procedure by adopting one or more of the following proposals: (1) Place a time limit on negotiations; (2) establish criteria to select among competing applicants; (3) divide the available spectrum evenly among the applicants.

In the First Report and Order in this proceeding, the Commission determined that different procedures were better-suited for different kinds of satellite applications. For most geostationary orbit (GSO) satellite applications, the Commission adopted a first-come, first-served approach. For most non-geostationary orbit (NGSO) satellite applications, the Commission adopted a procedure in which the available spectrum is divided evenly among the qualified applicants. The Commission also adopted measures to discourage applicants from filing speculative applications, including a bond requirement, payable if a licensee misses a milestone. The bond amounts originally were $5 million for each GSO satellite, and $7.5 million for each NGSO satellite system. These were interim amounts. Concurrently with the First Report and Order, the Commission adopted an FNPRM to determine whether to revise the bond amounts on a long-term basis.

In the Second Report and Order, the Commission adopted a streamlined procedure for certain kinds of satellite license modification requests.

In the Third Report and Order, the Commission adopted a standardized application form for satellite licenses, and adopted a mandatory electronic filing requirement for certain satellite applications.

In the Fourth Report and Order, the Commission revised the bond amounts based on the record developed in response to FNPRM. The bond amounts are now $3 million for each GSO satellite, and $5 million for each NGSO satellite system.

Timetable:

Action | Date | FR Cite
NPRM | 03/19/02 | 67 FR 12498
NPRM Comment Period End | 07/02/02
Second R&O (Release Date) | 06/20/03 | 68 FR 62247
Second FNPRM (Release Date) | 07/08/03 | 68 FR 53702
Third R&O (Release Date) | 07/08/03 | 68 FR 63994
FNPRM | 08/27/03 | 68 FR 51546
First R&O | 08/27/03 | 68 FR 51499
FNPRM Comment Period End | 10/27/03
Fourth R&O (Release Date) | 04/16/04 | 69 FR 67790
Fifth R&O, First Order on Recon (Release Date) | 07/06/04 | 69 FR 51586
Next Action Undetermined

Regulatory Flexibility Analysis Required: Yes.

Agency Contact: Fern Jarmulnek, Associate Chief, Satellite and Radio Communication Division, Federal Communications Commission, International Bureau, 445 12th Street SW., Washington, DC 20554, Phone: 202 418-0751, Fax: 202 418-0748, Email: fjarmuln@fcc.gov.

RIN: 3060-AH98

450. Reporting Requirements for U.S. Providers of International Telecommunications Services (IB Docket No. 04-112)

Legal Authority: 47 U.S.C. 151; 47 U.S.C. 154; 47 U.S.C. 161; 47 U.S.C. 201 to 205; * * *

Abstract: FCC is reviewing the reporting requirements to which carriers providing U.S.-international services are subject under 47 CFR part 43. The FCC adopted a First Report and Order that eliminated certain of those requirements. Specifically, it eliminated the quarterly reporting requirements for large carriers and foreign-affiliated switched resale carriers, 47 CFR 43.61(b), (c); the circuit addition report, 47 CFR 63.23(e); the division of telegraph tolls report, 47 CFR 43.53; and requirement to report separately for U.S. off shore points, 43.61(a), 43.82(a). The FCC also adopted a Further Notice of Proposed Rulemaking that seeks comment on additional reforms to further streamline and modernize the reporting requirements. The FCC also seeks comments on whether providers of interconnected Voice over Internet Protocol (VoIP) should submit data regarding their provision of international telephone services and whether non-common carrier international circuits should be reported.

Timetable:

Action | Date | FR Cite
NPRM | 04/12/04 | 69 FR 29676
First R&O | 05/12/11 | 76 FR 42567
FNPRM | 05/12/11 | 76 FR 42613
FNPRM Comment Period End | 09/02/11
Next Action Undetermined

Regulatory Flexibility Analysis Required: Yes.

Agency Contact: David Krech, Attorney Advisor, Federal Communications Commission, International Bureau, 445 12th Street SW., Washington, DC 20554, Phone: 202 418-1460, Fax: 202 418-2824, Email: david.krech@fcc.gov.

RIN: 3060-AI42

451. Amendment of the Commission's Rules To Allocate Spectrum and Adopt Service Rules and Procedures To Govern the Use of Vehicle-Mounted Earth Stations (IB Docket No. 07-101)

Legal Authority: 47 U.S.C. 151; 47 U.S.C. 154(i) and (j); 47 U.S.C. 157(a); 47 U.S.C. 301; 47 U.S.C. 303(c); 47 U.S.C. 303(f); 47 U.S.C. 303(g); 47 U.S.C. 303(r); 47 U.S.C. 303(y); 47 U.S.C. 308

Abstract: The Commission seeks comment on the proposed amendment of parts 2 and 25 of the Commission's rules to allocate spectrum for use with Vehicle-Mounted Earth Stations (VMES) in the Fixed-Satellite Service in the Ku-band uplink at 14.0-14.5 GHz and Ku-band downlink 11.72-12.2 GHz on a primary basis, and in the extended Ku-band downlink at 10.95-11.2 GHz and 11.45-11.7 GHz on a non-protected basis, and to adopt Ku-band VMES licensing and service rules modeled on the FCC's rules for Ku-band Earth Stations on Vessels (ESVs). The record in this proceeding will provide a basis for Commission action to facilitate introduction of this proposed service.

Timetable:

Action | Date | FR Cite
NPRM | 07/08/07 | 72 FR 39357
NPRM Comment Period End | 09/04/07
R&O | 11/04/09 | 74 FR 57092
Petition for Reconsideration | 04/14/10 | 75 FR 19401
Next Action Undetermined

Regulatory Flexibility Analysis Required: Yes.

Agency Contact: Howard Griboff, Deputy Chief, Federal Communications Commission, International Bureau, 445 12th Street SW., Washington, DC 20554, Phone: 202 418-0657, Fax: 202 418-1414, Email: howard.griboff@fcc.gov.

RIN: 3060-AI90

452. Review of Foreign Ownership Policies for Common Carrier and Aeronautical Radio Licensees Under Section 310(B)(4) of the Communications Act of 1934, as Amended; IB Docket No. 11-133

Legal Authority: 47 U.S.C. 151; 47 U.S.C. 152; 47 U.S.C. 154; 47 U.S.C. 211; 47 U.S.C. 303(r); 47 U.S.C. 309; 47 U.S.C. 310; 47 U.S.C. 403

Abstract: FCC seeks comment on changes and other options to revise and simplify its policies and procedures implementing section 310(b)(4) for common carrier and aeronautical radio station licensees while continuing to ensure that we have the information we need to carry out our statutory duties. (The NPRM does not address our policies with respect to the application of section 310(b)(4) to broadcast licensees.) The proposals are designed to reduce to the extent possible the regulatory costs and burdens imposed on wireless common carrier and aeronautical applicants, licensees, and spectrum lessees; provide greater transparency and more predictability with respect to the Commission's filing requirements and review process; and facilitate investment from new sources of capital, while continuing to protect important interests related to national security, law enforcement, foreign policy, and trade policy. The streamlining proposals in the NPRM may reduce costs and burdens currently imposed on licensees, including those licensees that are small entities, and accelerate the foreign ownership review process, while continuing to ensure that the Commission has the information it needs to carry out its statutory duties.

Timetable:

Action | Date | FR Cite
NPRM | 08/09/11 | 76 FR 65472
NPRM Comment Period End | 01/04/12
First Report and Order | 08/22/12 | 77 FR 50628
Next Action Undetermined

Regulatory Flexibility Analysis Required: Yes.

Agency Contact: James Ball, Chief, Policy Division, International Bureau, Federal Communications Commission, 445 12th Street SW., Washington, DC 20554, Phone: 202 418-0427, Email: james.ball@fcc.gov.

RIN: 3060-AJ70

453. International Settlements Policy Reform; IB Docket No. 11-80

Legal Authority: 47 U.S.C. 151; 47 U.S.C. 152; 47 U.S.C. 154; 47 U.S.C. 201-205; 47 U.S.C. 208; 47 U.S.C. 211; 47 U.S.C. 214; 47 U.S.C. 303(r); 47 U.S.C. 309; 47 U.S.C. 403

Abstract: FCC is reviewing the International Settlements Policy (ISP), which governs how U.S. carriers negotiate with foreign carriers for the exchange of international traffic and is the structure by which the Commission has sought to respond to concerns that foreign carriers with market power are able to take advantage of the presence of multiple U.S. carriers serving a particular market. In the NPRM, the FCC proposes to further deregulate the international telephony market and enable U.S. consumers to enjoy competitive prices when they make calls to international destinations. First, it proposes to remove the ISP from all international routes, except Cuba. Second, the FCC seeks comment on a proposal to enable the Commission to better protect U.S. consumers from the effects of anticompetitive conduct by foreign carriers in instances necessitating Commission intervention. Specifically, it seeks comments on proposals and issues regarding the application of the Commission's benchmarks policy.

Timetable:

Action | Date | FR Cite
NPRM | 05/13/11 | 76 FR 42625
NPRM Comment Period End | 09/02/11
Next Action Undetermined

Regulatory Flexibility Analysis Required: Yes.

Agency Contact: James Ball, Chief, Policy Division, International Bureau, Federal Communications Commission, 445 12th Street SW., Washington, DC 20554, Phone: 202 418-0427, Email: james.ball@fcc.gov.

RIN: 3060-AJ77

FEDERAL COMMUNICATIONS COMMISSION (FCC)

Media Bureau

Long-Term Actions

454. Competitive Availability of Navigation Devices (CS Docket No. 97-80)

Legal Authority: 47 U.S.C. 549

Abstract: The Commission has adopted rules to address the mandate expressed in section 629 of the Communications Act to ensure the commercial availability of “navigation devices,” the equipment used to access video programming and other services from multichannel video programming systems.

Specifically, the Commission required MVPDs to make available by a security element (known as a “cablecard”) separate from the basic navigation device (e.g., cable set-top boxes, digital video recorders, and television receivers with navigation capabilities). The separation of the security element from the host device required by this rule (referred to as the “integration ban”) was designed to enable unaffiliated manufacturers, retailers, and other vendors to commercially market host devices while allowing MVPDs to retain control over their system security. Also, in this proceeding, the Commission adopted unidirectional “plug and play” rules, to govern compatibility between MVPDs and navigation devices manufactured by consumer electronics manufacturers not affiliated with cable operators.

In the most recent action, the Commission made rule changes to improve the operation of the CableCard regime.

Timetable:

Action | Date | FR Cite
NPRM | 03/05/97 | 62 FR 10011
R&O | 07/15/98 | 63 FR 38089
Order on Recon | 06/02/99 | 64 FR 29599
FNPRM & Declaratory Ruling | 09/28/00 | 65 FR 58255
FNPRM | 01/16/03 | 68 FR 2278
Order and FNPRM | 06/17/03 | 68 FR 35818
Second R&O | 11/28/03 | 68 FR 66728
FNPRM | 11/28/03 | 68 FR 66776
Order on Recon | 01/28/04 | 69 FR 4081
Second R&O | 06/22/05 | 70 FR 36040
Third FNPRM | 07/25/07 | 72 FR 40818
4th FNPRM | 05/14/10 | 75 FR 27256
3rd R&O | 07/08/11 | 76 FR 40263
Next Action Undetermined

Regulatory Flexibility Analysis Required: Yes.

Agency Contact: Brendan Murray, Attorney Advisor, Policy Division, Federal Communications Commission, Media Bureau, 445 12th Street SW., Washington, DC 20554, Phone: 202 418-1573, Email: brendan.murray@fcc.gov.

RIN: 3060-AG28

455. Second Periodic Review of Rules and Policies Affecting the Conversion to DTV (MB Docket 03-15)

Legal Authority: 47 U.S.C. 4(i) and 4(j); 47 U.S.C. 303(r); 47 U.S.C. 307; 47 U.S.C. 309; 47 U.S.C. 336

Abstract: On January 18, 2001, the Commission adopted a Report and Order (R&O) and Further Notice of Proposed Rulemaking, addressing a number of issues related to the conversion of the nation's broadcast television system from analog to digital television. The Second Report and Order resolved several major technical issues, including the issue of receiver performance standards, DTV tuners, and revisions to certain components of the DTV transmission standard. A subsequent NPRM commenced the Commission's second periodic review of the progress of the digital television conversion. The resulting R&O adopted a multistep process to create a new DTV table of allotments and authorizations. Also in the R&O, the Commission adopted replication and maximization deadlines for DTV broadcasters and updated rules in recognition of revisions to broadcast transmission standards.

The Second R&O adopts disclosure requirements for televisions that do not include a digital tuner.

Timetable:

Action | Date | FR Cite
NPRM | 03/23/00 | 65 FR 15600
R&O | 02/13/01 | 66 FR 9973
MO&O | 12/18/01 | 66 FR 65122
Third MO&O and Order on Recon | 10/02/02 | 67 FR 61816
Second R&O and Second MO&O | 10/11/02 | 67 FR 63290
NPRM | 02/18/03 | 68 FR 7737
R&O | 10/04/04 | 69 FR 59500
Second R&O | 05/10/07 | 72 FR 26554
Next Action Undetermined

Regulatory Flexibility Analysis Required: Yes.

Agency Contact: Evan Baranoff, Attorney, Policy Division, Federal Communications Commission, Media Bureau, 445 12th Street SW., Washington, DC 20554, Phone: 202 418-7142, Email: evan.baranoff@fcc.gov.

RIN: 3060-AH54

456. Broadcast Ownership Rules

Legal Authority: 47 U.S.C. 151; 47 U.S.C. 152(a); 47 U.S.C. 154(i); 47 U.S.C. 303; 47 U.S.C. 307; 47 U.S.C. 309 and 310

Abstract: Section 202(h) of the Telecommunications Act of 1996 requires the Commission to review its ownership rules every four years and determine whether any such rules are necessary in the public interest as the result of competition.

In 2002, the Commission undertook a comprehensive review of its broadcast multiple and cross-ownership limits examining: Cross-ownership of TV and radio stations; local TV ownership limits; national TV cap; and dual network rule.

The Report and Order replaced the newspaper/broadcast cross-ownership and radio and TV rules with a tiered approach based on the number of television stations in a market. In June 2006, the Commission adopted a Further Notice of Proposed Rulemaking initiating the 2006 review of the broadcast ownership rules. The further notice also sought comment on how to address the issues raised by the Third Circuit. Additional questions are raised for comment in a Second Further Notice of Proposed Rulemaking.

In the Report and Order and Order on Reconsideration, the Commission adopted rule changes regarding newspaper/broadcast cross-ownership, but otherwise generally retained the other broadcast ownership rules currently in effect.

For the 2010 quadrennial review, five of the Commission's media rules are the subject of review: The local TV ownership rule; the local radio ownership rule; the newspaper broadcast cross-ownership rule; the radio/TV cross-ownership rule; and the dual network rule.

Timetable:

Action | Date | FR Cite
NPRM | 10/05/01 | 66 FR 50991
R&O | 08/05/03 | 68 FR 46286
Public Notice | 02/19/04 | 69 FR 9216
FNPRM | 08/09/06 | 71 FR 4511
Second FNPRM | 08/08/07 | 72 FR 44539
R&O and Order on Recon | 02/21/08 | 73 FR 9481
Notice of Inquiry | 06/11/10 | 75 FR 33227
NPRM | 01/19/12 | 77 FR 2868
NPRM Comment Period End | 03/19/11
Next Action Undetermined

Regulatory Flexibility Analysis Required: Yes.

Agency Contact: Amy Brett, Asst. Div. Chief, Industry Analysis Div., Federal Communications Commission, Media Bureau, 445 12th Street SW., Washington, DC 20554, Phone: 202 418-2703, Email: amy.brett@fcc.gov.

RIN: 3060-AH97

457. Establishment of Rules for Digital Low-Power Television, Television Translator, and Television Booster Stations (MB Docket No. 03-185)

Legal Authority: 47 U.S.C. 309; 47 U.S.C. 336

Abstract: This proceeding initiates the digital television conversion for low-power television (LPTV) and television translator stations. The rules and policies adopted as a result of this proceeding provide the framework for these stations' conversion from analog to digital broadcasting. The Report and Order adopts definitions and permissible use provisions for digital TV translator and LPTV stations. The Second Report and Order takes steps to resolve the remaining issues in order to complete the low-power television digital transition.

Timetable:

Action | Date | FR Cite
NPRM | 09/26/03 | 68 FR 55566
NPRM Comment Period End | 11/25/03 |
R&O | 11/29/04 | 69 FR 69325
FNPRM and MO&O | 10/18/10 | 75 FR 63766
2nd R&O | 07/07/11 | 76 FR 44821
Next Action Undetermined |  |

Regulatory Flexibility Analysis Required: Yes.

Agency Contact: Shaun Maher, Attorney, Video Division, Federal Communications Commission, Mass Media Bureau, 445 12th Street SW., Washington, DC 20554, Phone: 202 418-2324, Fax: 202 418-2827, Email: shaun.maher@fcc.gov.

RIN: 3060-AI38

458. Joint Sales Agreements in Local Television Markets (MB Docket No. 04-256)

Legal Authority: 47 U.S.C. 151 to 152(a); 47 U.S.C. 154(i); 47 U.S.C. 303; * * *

Abstract: A joint sales agreement (JSA) is an agreement with a licensee of a brokered station that authorizes a broker to sell some or all of the advertising time for the brokered station in return for a fee or percentage of revenues paid to the licensee. The Commission has sought comment on whether TV JSAs should be attributed for purposes of determining compliance with the Commission's multiple ownership rules.

Timetable:

Action | Date | FR Cite
NPRM | 08/26/04 | 69 FR 52464
NPRM Comment Period End | 09/27/04 |
Next Action Undetermined |  |

Regulatory Flexibility Analysis Required: Yes.

Agency Contact: Amy Brett, Asst. Div. Chief, Industry Analysis Div., Federal Communications Commission, Media Bureau, 445 12th Street SW., Washington, DC 20554, Phone: 202 418-2703, Email: amy.brett@fcc.gov.

RIN: 3060-AI55

459. Program Access Rules—Sunset of Exclusive Contracts Prohibition and Examination of Programming Tying Arrangements (MB Docket Nos. 12-68, 07-198)

Legal Authority: 47 U.S.C. 548

Abstract: The program access provisions of the Communications Act (sec. 628) generally prohibit exclusive contracts for satellite delivered programming between programmers in which a cable operator has an attributable interest (vertically integrated programmers) and cable operators. This limitation was set to expire on October 5, 2007, unless circumstances in the video programming marketplace indicate that an extension of the prohibition continues “to be necessary to preserve and protect competition and diversity in the distribution of video programming.” The October 2007 Report and Order concluded the prohibition continues to be necessary, and accordingly, retained it until October 5, 2012. The accompanying Notice of Proposed Rulemaking (NPRM) sought comment on revisions to the Commission's program access and retransmission consent rules. The associated Report and Order adopted rules to permit complainants to pursue program access claims regarding terrestrially delivered cable affiliated programming.

In March 2012, the Commission sought comment on whether to retain, relax, or sunset the exclusive contracts prohibition.

Timetable:

Action | Date | FR Cite
NPRM | 03/01/07 | 72 FR 9289
NPRM Comment Period End | 04/02/07 |
R&O | 10/04/07 | 72 FR 56645
Second NPRM | 10/31/07 | 72 FR 61590
Second NPRM Comment Period End | 11/30/07 |
R&O | 03/02/10 | 75 FR 9692
NPRM | 04/23/12 | 77 FR 24302
Next Action Undetermined |  |

Regulatory Flexibility Analysis Required: Yes.

Agency Contact: David Konczal, Policy Division, Media Bureau, Federal Communications Commission, 445 12th Street SW., Washington, DC 20554, Phone: 202 418-2228, Email: david.konczal@fcc.gov.

RIN: 3060-AI87

460. Third Periodic Review of the Commission's Rules and Policies Affecting the Conversion to Digital Television (MB Docket No. 07-91)

Legal Authority: 47 U.S.C. 151; 47 U.S.C. 154(i); 47 U.S.C. 154(j); 47 U.S.C. 301 to 303; 47 U.S.C. 307 to 309; 47 U.S.C. 312; 47 U.S.C. 316; 47 U.S.C. 318 and 319; 47 U.S.C. 324 and 325; 47 U.S.C. 336 and 337

Abstract: Congress has mandated that after February 17, 2009, full-power broadcast stations must transmit only in digital signals, and may no longer transmit analog signals. This proceeding is the Commission's third periodic review of the transition of the nation's broadcast television system from analog to digital television (DTV). The Commission conducts these periodic reviews in order to assess the progress of the transition and make any necessary adjustments to the Commission's rules and policies to facilitate the introduction of DTV service and the recovery of spectrum at the end of the transition. In this review, the Commission considers how to ensure that broadcasters complete construction of their final post-transition (digital) facilities by the statutory deadline.

Timetable:

Action | Date | FR Cite
NPRM | 07/09/07 | 72 FR 37310
NPRM Comment Period End | 08/08/07 |
R&O | 01/30/08 | 73 FR 5634
Order on Clarification | 07/10/08 | 73 FR 39623
Next Action Undetermined |  |

Regulatory Flexibility Analysis Required: Yes.

Agency Contact: Evan Baranoff, Attorney, Policy Division, Federal Communications Commission, Media Bureau, 445 12th Street SW., Washington, DC 20554, Phone: 202 418-7142, Email: evan.baranoff@fcc.gov.

RIN: 3060-AI89

461. Broadcast Localism (MB Docket No. 04-233)

Legal Authority: 47 U.S.C. 154(i); 47 U.S.C. 303; 47 U.S.C. 532; 47 U.S.C. 536

Abstract: The concept of localism has been a cornerstone of broadcast regulation. The Commission has consistently held that as temporary trustee of the public's airwaves, broadcasters are obligated to operate their stations to serve the public interest. Specifically, broadcasters are required to air programming responsive to the needs and issues of the people in their licensed communities. The Commission opened this proceeding to seek input on a number of issues related to broadcast localism.

Timetable:

Action | Date | FR Cite
Report and NPRM | 02/13/08 | 73 FR 8255
NPRM Comment Period End | 03/14/08 |
Next Action Undetermined |  |

Regulatory Flexibility Analysis Required: Yes.

Agency Contact: Mary Beth Murphy, Chief, Policy Division, Federal Communications Commission, Media Bureau, 445 12th Street SW., Washington, DC 20554, Phone: 202 418-2132, Email: marybeth.murphy@fcc.gov.

RIN: 3060-AJ04

462. Creating a Low Power Radio Service (MM Docket No. 99-25)

Legal Authority: 47 U.S.C. 151 to 152; 47 U.S.C. 154(i); 47 U.S.C. 303; 47 U.S.C. 403; 47 U.S.C. 405

Abstract: This proceeding was initiated to establish a new noncommercial educational low power FM radio service for non-profit community organizations and public safety entities. In January 2000, the Commission adopted a Report and Order establishing two classes of LPFM stations, 100 watt (LP100) and 10 watt (LP10) facilities, with service radii of approximately 3.5 miles and 1-2 miles, respectively. The Report and Order also established ownership and eligibility rules for the LPFM service. The Commission generally restricted ownership to entities with no attributable interest in any other broadcast station or other media. To choose among entities filing mutually exclusive applications for LPFM licenses, the Commission established a point system favoring local ownership and locally-originated programming. The Report and Order imposed separation requirements for LPFM with respect to full power stations operating on co-, first-, and second-adjacent and intermediate frequency (IF) channels.

In a Further Notice issued in 2005, the Commission reexamined some of its rules governing the LPFM service, noting that the rules may need adjustment in order to ensure that the Commission maximizes the value of the LPFM service without harming the interests of full-power FM stations or other Commission licensees. The Commission sought comment on a number of issues with respect to LPFM ownership restrictions and eligibility.

The Third Report and Order resolves issues raised in the Further Notice. The accompanying Second Further Notice of Proposed Rulemaking (FNPRM) considers rule changes to avoid the potential loss of LPFM stations.

In the third FNPRM, the Commission seeks comment on the impact of the Local Community Radio Act on the procedures previously adopted.

The Fourth Report and Order adopts translator application necessary policies to effectuate the requirement of the Local Community Radio Act of 2010.

In the Fifth Report and Order, the Commission modified rules to implement provisions of the Local Community Radio Act of 2010.

Timetable:

Action | Date | FR Cite
NPRM | 02/16/99 | 64 FR 7577
R&O | 02/15/00 | 65 FR 7616
MO&O and Order on Recon | 11/09/00 | 65 FR 67289
Second R&O | 05/10/01 | 66 FR 23861
Second Order on Recon and FNPRM | 07/07/05 | 70 FR 3918
Third R&O | 01/17/08 | 73 FR 3202
Second FNPRM | 03/26/08 | 73 FR 12061
Third FNPRM | 07/29/11 | 76 FR 454901
4th R&O | 04/09/12 | 77 FR 21002
5th R&O | 04/05/12 | 77 FR 20555
Next Action Undetermined |  |

Regulatory Flexibility Analysis Required: Yes.

Agency Contact: Peter Doyle, Chief, Audio Division, Media Bureau, Federal Communications Commission, 445 12th Street SW., Washington, DC 20554, Phone: 202 418-2700, Email: peter.doyle@fcc.gov.

RIN: 3060-AJ07

463. Policies To Promote Rural Radio Service and To Streamline Allotment and Assignment Procedures (MB Docket No. 09-52)

Legal Authority: 47 U.S.C. 151 and 152; 47 U.S.C. 154(i); 47 U.S.C. 303; 47 U.S.C. 307 and 309(j)

Abstract: This proceeding was commenced to consider a number of changes to the Commission's rules and procedures to carry out the statutory goal of distributing radio service fairly and equitably, and to increase the transparency and efficiency of radio broadcast auction and licensing processes. In the NPRM, comment is sought on specific proposals regarding the procedures used to award commercial broadcast spectrum in the AM and FM broadcast bands. The accompanying Report and Order adopts rules that provide tribes a priority to obtain broadcast radio licenses in tribal communities. The Commission concurrently adopted a Further Notice of Proposed Rulemaking seeking comment on whether to extend the tribal priority to tribes that do not possess tribal land.

The Commission adopted a second FNPRM in order to develop a more comprehensive record regarding measures to assist Federally recognized Native American tribes and Alaska native villages in obtaining commercial FM station authorizations. In the second R&O, the Commission adopted a number of procedures, procedural changes, and clarifications of existing rules and procedures, designed to promote ownership and programming diversity, especially by Native American tribes, and to promote the initiation and retention of radio service in and to smaller communities and rural areas.

In the Third R&O, the Commission adopted procedures to enable a Tribe or Tribal entity to qualify for Tribal Allotments added to the FM allotment table.

Timetable:

Action | Date | FR Cite
NPRM | 05/13/09 | 74 FR 22498
NPRM Comment Period End | 07/10/09 |
First R&O | 03/04/10 | 75 FR 9797
FNPRM | 03/04/10 | 75 FR 9856
2nd FNPRM | 03/16/11 | 76 FR 14362
2nd R&O | 04/06/11 | 76 FR 18942
3rd R&O | 01/20/12 | 77 FR 2916
Next Action Undetermined |  |

Regulatory Flexibility Analysis Required: Yes.

Agency Contact: Peter Doyle, Chief, Audio Division, Media Bureau, Federal Communications Commission, 445 12th Street SW., Washington, DC 20554, Phone: 202 418-2700, Email: peter.doyle@fcc.gov.

RIN: 3060-AJ23

464. Promoting Diversification of Ownership in the Broadcast Services (MB Docket No. 07-294)

Legal Authority: 47 U.S.C. 151; 47 U.S.C. 152(a); 47 U.S.C. 154 i and (j); 47 U.S.C. 257; 47 U.S.C. 303(r); 47 U.S.C. 307 to 310; 47 U.S.C. 336; 47 U.S.C. 534 and 535

Abstract: Diversity and competition are longstanding and important Commission goals. The measures proposed, as well as those adopted in this proceeding, are intended to promote diversity of ownership of media outlets. In the Report and Order and third FNPRM, measures are enacted to increase participation in the broadcasting industry by new entrants and small businesses, including minority- and women-owned businesses. In the Report and Order and fourth FNPRM, the Commission adopts improvements to its data collection in order to obtain an accurate and comprehensive assessment of minority and female broadcast ownership in the United States. The Memorandum Opinion & Order addressed petitions for Reconsideration of the rules, and also sought comment on a proposal to expand the reporting requirements to non attributable interests.

Pursuant to a remand from the Third Circuit, the measures adopted in the 2009 Diversity Order were put forth for comment in the NPRM for the 2010 review of the Commission's Broadcast Ownership rules.

Timetable:

Action | Date | FR Cite
R&O | 05/16/08 | 73 FR 28361
3rd FNPRM | 05/16/08 | 73 FR 28400
R&O | 05/27/09 | 74 FR 25163
4th FNPRM | 05/27/09 | 74 FR 25305
5th NPRM (release date) | 10/16/09 |
MO&O | 10/30/09 | 74 FR 56131
NPRM | 01/19/12 | 77 FR 2868
Next Action Undetermined |  |

Regulatory Flexibility Analysis Required: Yes.

Agency Contact: Hillary DeNigro, Attorney, Federal Communications Commission, 445 12th Street SW., Washington, DC 20554, Phone: 202 418-7334.

RIN: 3060-AJ27

465. Amendment of the Commission's Rules Related to Retransmission Consent; MB Docket No. 10-71

Legal Authority: 47 U.S.C. 154; 47 U.S.C. 325; 47 U.S.C. 534

Abstract: Cable systems and other multichannel video programming distributors are not entitled to retransmit a broadcast station's signal without the station's consent. This consent is known as “retransmission consent.” Since Congress enacted the retransmission consent regime in 1992, there have been significant changes in the video programming marketplace. In this proceeding, comment is sought on a series of proposals to streamline and clarify the Commission's rules concerning or affecting retransmission consent negotiations.

Timetable:

Action | Date | FR Cite
NPRM | 03/28/11 | 76 FR 17071
NPRM Comment Period End | 05/27/11 |
Next Action Undetermined |  |

Regulatory Flexibility Analysis Required: Yes.

Agency Contact: Diana Sokolow, Attorney, Policy Division, Federal Communications Commission, Media Bureau, 445 12th Street SW., Washington, DC 20554, Phone: 202 418-2120, Email: diana.sokolow@fcc.gov.

RIN: 3060-AJ55

466. Video Description: Implementation of the Twenty-First Century Communications and Video Accessibility Act of 2010; MB Docket No. 11-43

Legal Authority: 47 U.S.C. 151; 47 U.S.C. 152; 47 U.S.C. 154(i); 47 U.S.C. 303

Abstract: The Twenty-First Century Communications and Video Accessibility Act of 2010 (“CVAA”) requires reinstatement of the video description rules adopted by the Commission in 2000. “Video description,” which is the insertion of narrated descriptions of a television program's key visual elements into natural pauses in the program's dialogue, makes video programming more accessible to individuals who are blind or visually impaired. This proceeding was initiated to enable compliance with the CVAA.

Timetable:

Action | Date | FR Cite
NPRM | 03/18/11 | 76 FR 14856
NPRM Comment Period End | 04/18/11 |
R&O | 09/08/11 | 76 FR 55585
Next Action Undetermined |  |

Regulatory Flexibility Analysis Required: Yes.

Agency Contact: Lyle Elder, Attorney, Policy Division, Media Bureau, Federal Communications Commission, 445 12th Street SW., Washington, DC 20554, Phone: 202 418-2120, Email: lyle.elder@fcc.gov.

RIN: 3060-AJ56

467. Closed Captioning of Internet Protocol-Delivered Video Programming: Implementation of the Twenty-First Century Communications and Video Accessibility Act of 2010; MB Docket No. 11-154

Legal Authority: 47 U.S.C. 154(i); 47 U.S.C. 154(j); 47 U.S.C. 303; 47 U.S.C. 330(b); 47 U.S.C. 613; 47 U.S.C. 617

Abstract: Pursuant to the Commission's responsibilities under the Twenty-First Century Communications and Video Accessibility Act of 2010, this proceeding was initiated to adopt rules to govern the closed captioning requirements for the owners, providers, and distributors of video programming delivered using Internet protocol.

Timetable:

Action | Date | FR Cite
NPRM | 09/28/11 | 76 FR 59963
R&O | 03/20/12 | 77 FR 19480
Next Action Undetermined |  |

Regulatory Flexibility Analysis Required: Yes.

Agency Contact: Diana Sokolow, Attorney, Policy Division, Federal Communications Commission, Media Bureau, 445 12th Street SW., Washington, DC 20554, Phone: 202 418-2120, Email: diana.sokolow@fcc.gov.

RIN: 3060-AJ67

468. Basic Service Tier Encryption (MB Docket No. 11-169)

Legal Authority: 47 U.S.C. 151; 47 U.S.C. 154(i); 47 U.S.C. 154(j); 47 U.S.C. 303(r); 47 U.S.C. 403; 47 U.S.C. 544q

Abstract: In this proceeding, the Commission evaluates a proposed rule to allow cable operators to encrypt the basic service tier in all-digital cable systems, provided that those operators undertake certain consumer protection measures.

Timetable:

Action | Date | FR Cite
NPRM | 10/27/11 | 76 FR 66666
NPRM Comment Period End | 11/28/11 |
Next Action Undetermined |  |

Regulatory Flexibility Analysis Required: Yes.

Agency Contact: Brendan Murray, Attorney Advisor, Policy Division, Federal Communications Commission, Media Bureau, 445 12th Street SW., Washington, DC 20554, Phone: 202 418-1573, Email: brendan.murray@fcc.gov.

RIN: 3060-AJ76

469. • Noncommercial Educational Station Fundraising for Third-Party Non-Profit Organizations; MB Docket No. 12-106

Legal Authority: 47 U.S.C. 151; 47 U.S.C. 154(i); 47 U.S.C. 303(r); 47 U.S.C. 399(b)

Abstract: The proceeding was initiated to analyze the Commission's long standing policy prohibiting non-commercial educational broadcast stations from conducting on-air fundraising activities that interrupt regular programming for the benefit of third-party non-profit organizations.

Timetable:

Action | Date | FR Cite
NPRM | 06/22/12 | 77 FR 37638
Next Action Undetermined

Regulatory Flexibility Analysis Required: Yes.

Agency Contact: Mary Beth Murphy, Chief, Policy Division, Federal Communications Commission, Media Bureau, 445 12th Street SW., Washington, DC 20554, Phone: 202 418-2132, Email: marybeth.murphy@fcc.gov.

RIN: 3060-AJ79

FEDERAL COMMUNICATIONS COMMISSION (FCC)

Office of Managing Director

Long-Term Actions

470. Assessment and Collection of Regulatory Fees

Legal Authority: 47 U.S.C. 159

Abstract: Section 9 of the Communications Act of 1934, as amended, 47 U.S.C. 159, requires the FCC to recover the cost of its activities by assessing and collecting annual regulatory fees from beneficiaries of the activities.

Timetable:

Action | Date | FR Cite
NPRM | 04/06/06 | 71 FR 17410
R&O | 08/02/06 | 71 FR 43842
NPRM | 05/02/07 | 72 FR 24213
R&O | 08/16/07 | 72 FR 45908
FNPRM | 08/16/07 | 72 FR 46010
NPRM | 05/28/08 | 73 FR 30563
R&O | 08/26/08 | 73 FR 50201
FNPRM | 08/26/08 | 73 FR 50285
2nd R&O | 05/12/09 | 74 FR 22104
NPRM and Order | 06/02/09 | 74 FR 26329
R&O | 08/11/09 | 74 FR 40089
NPRM | 04/26/10 | 75 FR 21536
R&O | 07/19/10 | 75 FR 41932
NPRM | 05/26/11 | 76 FR 30605
NPRM Comment Period End | 06/09/11
R&O | 08/10/11 | 76 FR 49333
NPRM | 05/17/12 | 77 FR 29275
NPRM Comment Period End | 05/31/12
Reply Comment Period End | 06/07/12
R&O | 08/03/12 | 77 FR 46307
NPRM | 08/17/12 | 77 FR 49749
Next Action Undetermined

Regulatory Flexibility Analysis Required: Yes.

Agency Contact: Roland Helvajian, Office of the Managing Director, Federal Communications Commission, 445 12th Street SW., Washington, DC 20554, Phone: 202 418-0444, Email: roland.helvajian@fcc.gov.

RIN: 3060-AI79

471. Amendment of Part 1 of the Commission's Rules, Concerning Practice and Procedure, Amendment of CORES Registration System; MD Docket No. 10-234

Legal Authority: 47 U.S.C. 154(i); 47 U.S.C. 158(c)(2); 47 U.S.C. 159(c)(2); 47 U.S.C. 303(r); 5 U.S.C. 5514; 31 U.S.C. 7701(c)(1)

Abstract: This Notice of Proposed Rulemaking proposes revisions intended to make the Commission's Registration System (CORES) more feature-friendly and improve the Commission's ability to comply with various statutes that govern debt collection and the collection of personal information by the Federal Government. The proposed modifications to CORES partly include: Requiring entities and individuals to rely primarily upon a single FRN that may, at their discretion, be linked to subsidiary or associated accounts; allowing entities to identify multiple points of contact; eliminating some of our exceptions to the requirement that entities and individuals provide their Taxpayer Identification Number (TIN) at the time of registration; requiring FRN holders to provide their email addresses; modifying CORES log-in procedures; adding attention flags and automated notices that would inform FRN holders of their financial standing before the Commission; and adding data fields to enable FRN holders to indicate their tax-exempt status and notify the Commission of pending bankruptcy proceedings.

Timetable:

Action | Date | FR Cite
NPRM | 02/01/11 | 76 FR 5652
NPRM Comment Period End | 03/03/11
Next Action Undetermined

Regulatory Flexibility Analysis Required: Yes.

Agency Contact: Warren Firschein, Attorney, Federal Communications Commission, 445 12th Street SW., Washington, DC 20554, Phone: 202 418-0844, Email: warren.firschein@fcc.gov.

RIN: 3060-AJ54

FEDERAL COMMUNICATIONS COMMISSION (FCC)

Public Safety and Homeland Security Bureau

Long-Term Actions

472. Revision of the Rules To Ensure Compatibility With Enhanced 911 Emergency Calling Systems

Legal Authority: 47 U.S.C. 134(i); 47 U.S.C. 151; 47 U.S.C. 201; 47 U.S.C. 208; 47 U.S.C. 215; 47 U.S.C. 303; 47 U.S.C. 309

Abstract: In a series of orders in several related proceedings issued since 1996, the Federal Communications Commission has taken action to improve the quality and reliability of 911 emergency services for wireless phone users. Rules have been adopted governing the availability of basic 911 services and the implementation of enhanced 911 (E911) for wireless services.

Timetable:

Action | Date | FR Cite
FNPRM | 08/02/96 | 61 FR 40374
R&O | 08/02/96 | 61 FR 40348
MO&O | 01/16/98 | 63 FR 2631
Second R&O | 06/28/99 | 64 FR 34564
Third R&O | 11/04/99 | 64 FR 60126
Second MO&O | 12/29/99 | 64 FR 72951
Fourth MO&O | 10/02/00 | 65 FR 58657
FNPRM | 06/13/01 | 66 FR 31878
Order | 11/02/01 | 66 FR 55618
R&O | 05/23/02 | 67 FR 36112
Public Notice | 07/17/02 | 67 FR 46909
Order to Stay | 07/26/02
Order on Recon | 01/22/03 | 68 FR 2914
FNPRM | 01/23/03 | 68 FR 3214
R&O, Second FNPRM | 02/11/04 | 69 FR 6578
Second R&O | 09/07/04 | 69 FR 54037
NPRM | 06/20/07 | 72 FR 33948
NPRM Comment Period End | 09/18/07
R&O | 02/14/08 | 73 FR 8617
Public Notice | 09/25/08 | 73 FR 55473
Comment Period End | 10/18/08
Public Notice | 11/18/09 | 74 FR 59539
Comment Period End | 12/04/09
FNPRM, NOI | 11/02/10 | 75 FR 67321
Second R&O | 11/18/10 | 75 FR 70604
Order, Comment Period Extension | 01/07/11 | 76 FR 1126
Comment Period End | 02/18/11
Final Rule | 04/28/11 | 76 FR 23713
NPRM | 08/04/11 | 76 FR 47114
Second FNPRM | 08/04/11 | 76 FR 47114
3rd R&O | 09/28/11 | 76 FR 59916
NPRM Comment Period End | 11/02/11
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AG34

473. Enhanced 911 Services for Wireline

Legal Authority: 47 U.S.C. 151; 47 U.S.C. 154(i); 47 U.S.C. 201; 47 U.S.C. 222; 47 U.S.C. 251

Abstract: The rules generally will assist State governments in drafting legislation that will ensure that multi-line telephone systems are compatible with the enhanced 911 network. The Public Notice seeks comment on whether the Commission, rather than States, should regulate multi-line telephone systems, and whether Part 68 of the Commission's rules should be revised.

Timetable:

Action | Date | FR Cite
NPRM | 10/11/94 | 59 FR 54878
FNPRM | 01/23/03 | 68 FR 3214
Second FNPRM | 02/11/04 | 69 FR 6595
R&O | 02/11/04 | 69 FR 6578
Public Notice | 01/13/05 | 70 FR 2405
Comment Period End | 03/29/05
NOI | 01/13/11 | 76 FR 2297
NOI Comment Period End | 03/14/11
Public Notice (release date) | 05/21/12
Public Notice Comment Period End | 08/06/12
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AG60

474. In the Matter of the Communications Assistance for Law Enforcement Act

Legal Authority: 47 U.S.C. 229; 47 U.S.C. 1001 to 1008

Abstract: All of the decisions in this proceeding thus far are aimed at implementation of provisions of the Communications Assistance for Law Enforcement Act.

Timetable:

Action | Date | FR Cite
NPRM | 10/10/97 | 62 FR 63302
Order | 01/13/98 | 63 FR 1943
FNPRM | 11/16/98 | 63 FR 63639
R&O | 01/29/99 | 64 FR 51462
Order | 03/29/99 | 64 FR 14834
Second R&O | 09/23/99 | 64 FR 51462
Third R&O | 09/24/99 | 64 FR 51710
Order on Recon | 09/28/99 | 64 FR 52244
Policy Statement | 10/12/99 | 64 FR 55164
Second Order on Recon | 05/04/01 | 66 FR 22446
Order | 10/05/01 | 66 FR 50841
Order on Remand | 05/02/02 | 67 FR 21999
NPRM | 09/23/04 | 69 FR 56976
First R&O | 10/13/05 | 70 FR 59704
Second R&O | 07/05/06 | 71 FR 38091
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AG74

475. Development of Operational, Technical, and Spectrum Requirements for Public Safety Communications Requirements

Legal Authority: 47 U.S.C. 151; 47 U.S.C. 154; 47 U.S.C. 160; 47 U.S.C. 201 and 202; 47 U.S.C. 303; 47 U.S.C. 337(a); 47 U.S.C. 403

Abstract: This item takes steps toward developing a flexible regulatory framework to meet vital current and future public safety communications needs.

Timetable:

Action | Date | FR Cite
NPRM | 10/09/97 | 62 FR 60199
Second NPRM | 11/07/97 | 62 FR 60199
First R&O | 11/02/98 | 63 FR 58645
Third NPRM | 11/02/98 | 63 FR 58685
MO&O | 11/04/99 | 64 FR 60123
Second R&O | 08/08/00 | 65 FR 48393
Fourth NPRM | 08/25/00 | 65 FR 51788
Second MO&O | 09/05/00 | 65 FR 53641
Third MO&O | 11/07/00 | 65 FR 66644
Third R&O | 11/07/00 | 65 FR 66644
Fifth NPRM | 02/16/01 | 66 FR 10660
Fourth R&O | 02/16/01 | 66 FR 10632
MO&O | 09/27/02 | 67 FR 61002
NPRM | 11/08/02 | 67 FR 68079
R&O | 12/13/02 | 67 FR 76697
NPRM | 04/27/05 | 70 FR 21726
R&O | 04/27/05 | 70 FR 21671
NPRM | 04/07/06 | 71 FR 17786
NPRM | 09/21/06 | 71 FR 55149
Ninth NPRM | 01/10/07 | 72 FR 1201
Ninth NPRM Comment Period End | 02/26/07
R&O and FNPRM | 05/02/07 | 72 FR 24238
R&O and FNPRM Comment Period End | 05/23/07
Second R&O | 08/24/07 | 72 FR 48814
Second FNPRM | 05/21/08 | 73 FR 29582
Third FNPRM | 10/03/08 | 73 FR 57750
Third R&O | 01/25/11 | 76 FR 51271
Fourth FNPRM | 01/25/11 | 76 FR 51271
Fourth FNPRM Comment Period End | 05/10/11
Fourth R&O | 07/20/11 | 76 FR 62309
Next Action Undetermined

Regulatory Flexibility Analysis Required: Yes.

Agency Contact: Jeff Cohen, Senior Legal Counsel, Federal Communications Commission, Public Safety and Homeland Security Bureau, 445 12th Street SW., Washington, DC 20554, Phone: 202 418-0799, Email: jeff.cohen@fcc.gov.

RIN: 3060-AG85

476. Implementation of 911 Act (CC Docket No. 92-105, WT Docket No. 00-110)

Legal Authority: 47 U.S.C. 151; 47 U.S.C. 154(i) and 154(j); 47 U.S.C. 157; 47 U.S.C. 160; 47 U.S.C. 202; 47 U.S.C. 208; 47 U.S.C. 210; 47 U.S.C. 214; 47 U.S.C. 251(e); 47 U.S.C. 301; 47 U.S.C. 303; 47 U.S.C. 308 to 309(j); 47 U.S.C. 310

Abstract: This proceeding is separate from the Commission's proceeding on Enhanced 911 Emergency Systems (E911) in that it is intended to implement provisions of the Wireless Communications and Public Safety Act of 1999 through the promotion of public safety by the deployment of a seamless, nationwide emergency communications infrastructure that includes wireless communications services. More specifically, a chief goal of the proceeding is to ensure that all emergency calls are routed to the appropriate local emergency authority to provide assistance. The E911 proceeding goes a step further and is aimed at improving the effectiveness and reliability of wireless 911 dispatchers with additional information on wireless 911 calls.

Timetable:

Action | Date | FR Cite
Fourth R&O, Third NPRM | 09/19/00 | 65 FR 56752
NPRM | 09/19/00 | 65 FR 56757
Fifth R&O, First R&O, and MO&O | 01/14/02 | 67 FR 1643
Final Rule | 01/25/02 | 67 FR 3621
Next Action Undetermined

Regulatory Flexibility Analysis Required: Yes.

Agency Contact: David H. Siehl, Attorney, Federal Communications Commission, Public Safety and Homeland Security Bureau, 445 12th Street SW., Washington, DC 20554, Phone: 202 418-1313, Fax: 202 418-2816, Email: david.siehl@fcc.gov.

RIN: 3060-AH90

477. Commission Rules Concerning Disruptions to Communications; PS Docket No. 11-82

Legal Authority: 47 U.S.C. 151; 47 U.S.C. 154(i); 47 U.S.C. 303(r); 47 U.S.C. 615a-1

Abstract: The 2004 Report and Order extended the Commission's outage reporting requirements to non-wireline carriers and streamlined reporting through a new electronic template. Nine petitions for reconsideration were filed and remain pending. A Further Notice of Proposed Rulemaking regarding the unique communications needs of airports also remains pending.

The 2012 Report and Order extended the Commission's outage reporting requirements to interconnected Voice over Internet Protocol (VOIP) services where there is a complete loss of connectivity that has the potential to affect at least 900,000 user minutes. Interconnected VOIP service providers will file outage reports through the same electronic mechanism as providers of other services. They will be required to submit a “Notification” and a “Final Report.” A notification is due within four hours of discovering a reportable outage when the outage affects a facility serving a 911 call center, and within 24 hours when the outage does not affect such facilities. A Final Report is due within 30 days. The Commission deferred action on extending the outage reporting requirements to broadband Internet services and to circumstances where technical conditions (such as packet loss, latency, and/or jitter) effectively prevent communication.

Timetable:

Action | Date | FR Cite
NPRM | 03/26/04 | 69 FR 15761
FNPRM | 11/26/04 | 69 FR 68859
R&O | 12/03/04 | 69 FR 70316
Announcement of Effective Date and Partial Stay | 12/30/04 | 69 FR 78338
Petition for Recon | 02/15/05 | 70 FR 7737
Amendment of Delegated Authority | 02/21/08 | 73 FR 9462
Public Notice | 08/02/10
NPRM | 05/13/11 | 76 FR 33686
NPRM Comment Period End | 08/08/11
R&O | 02/21/12 | 77 FR 25088
Next Action Undetermined

Regulatory Flexibility Analysis Required: Yes.

Agency Contact: Lisa Fowlkes, Deputy Bureau Chief, Public Safety and Homeland Security Bureau, Federal Communications Commission, Public Safety and Homeland Security Bureau, 445 12th Street SW., Washington, DC 20554, Phone: 202 418-7452, Email: lisa.fowlkes@fcc.gov.

RIN: 3060-AI22

478. E911 Requirements for IP-Enabled Service Providers; Dockets: GN 11-117, PS 07-114, WC 05-196, WC 04-36

Legal Authority: 47 U.S.C. 151; 47 U.S.C. 154(i) and 154(j); 47 U.S.C. 251(e); 47 U.S.C. 303(r)

Abstract: The notice seeks comment on what additional steps the Commission should take to ensure that providers of Voice-over Internet Protocol services that interconnect with the public switched telephone network provide ubiquitous and reliable enhanced 911 service.

Timetable:

Action | Date | FR Cite
NPRM | 03/29/04 | 69 FR 16193
NPRM | 06/29/05 | 70 FR 37307
R&O | 06/29/05 | 70 FR 37273
NPRM Comment Period End | 09/12/05
NPRM | 06/20/07 | 72 FR 33948
NPRM Comment Period End | 09/18/07
FNPRM, NOI | 11/02/10 | 75 FR 67321
Order, Extension of Comment Period | 01/07/11 | 76 FR 1126
Comment Period End | 02/18/11
2nd FNPRM, NPRM | 08/04/11 | 76 FR 47114
2nd FNPRM Comment Period End | 11/02/11
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AI62

479. Stolen Vehicle Recovery System (SVRS)

Legal Authority: 47 U.S.C. 151 and 152; 47 U.S.C. 154(i); 47 U.S.C. 301 to 303

Abstract: The Report and Order amends 47 CFR 90.20(e)(6) governing stolen vehicle recovery system operations at 173.075 MHz, by increasing the radiated power limit for narrowband base stations; increasing the power output limit for narrowband base stations; increasing the power output limit for narrowband mobile transceivers; modifying the base station duty cycle; increasing the tracking duty cycle for mobile transceivers; and retaining the requirement for TV channel 7 interference studies and that such studies must be served on TV channel 7 stations.

Timetable:

Action | Date | FR Cite
NPRM | 08/23/06 | 71 FR 49401
NPRM Comment Period End | 10/10/06
R&O | 10/14/08 | 73 FR 60631
Next Action Undetermined

Regulatory Flexibility Analysis Required: Yes.

Agency Contact: Zenji Nakazawa, Assoc. Chief, Policy Division, Federal Communications Commission, Public Safety and Homeland Security Bureau, 445 12th Street SW., Washington, DC 20554, Phone: 202 418-7949, Email: zenji.nakazaw@fcc.gov.

RIN: 3060-AJ01

480. Commercial Mobile Alert System

Legal Authority: Pub. L. 109-347 title VI; EO 13407; 47 U.S.C. 151; 47 U.S.C. 154(i)

Abstract: In the Notice of Proposed Rulemaking (NPRM), the Commission initiated a comprehensive rulemaking to establish a commercial mobile alert system under which commercial mobile service providers may elect to transmit emergency alerts to the public. The Commission has issued three orders adopting CMAS rules as required by statute. Issues raised in an FNPRM regarding testing requirements for noncommercial educational and public broadcast television stations remain outstanding.

Timetable:

Action | Date | FR Cite
NPRM | 01/03/08 | 73 FR 545
NPRM Comment Period End | 02/04/08
First R&O | 07/24/08 | 73 FR 43009
Second R&O | 08/14/08 | 73 FR 47550
FNPRM | 08/14/08 | 73 FR 47568
FNPRM Comment Period End | 09/15/08
Third R&O | 09/22/08 | 73 FR 54511
Next Action Undetermined

Regulatory Flexibility Analysis Required: Yes.

Agency Contact: Lisa Fowlkes, Deputy Bureau Chief, Public Safety and Homeland Security Bureau, Federal Communications Commission, Public Safety and Homeland Security Bureau, 445 12th Street SW., Washington, DC 20554, Phone: 202 418-7452, Email: lisa.fowlkes@fcc.gov.

RIN: 3060-AJ03

481. Emergency Alert System

Legal Authority: 47 U.S.C. 151 and 152; 47 U.S.C. 154(i) and 154(o); 47 U.S.C. 301; 47 U.S.C. 393(r) and 303(v); 47 U.S.C. 307 and 309; 47 U.S.C. 335 and 403; 47 U.S.C. 544(g); 47 U.S.C. 606 and 615

Abstract: This revision of 47 CFR part 11 provides for national-level testing of the Emergency Alert System.

Timetable:

Action | Date | FR Cite
NPRM | 01/12/10 | 75 FR 4760
NPRM Comment Period End | 03/30/10
3rd R&O | 02/03/11 | 76 FR 12600
Next Action Undetermined

Regulatory Flexibility Analysis Required: Yes.

Agency Contact: Eric Ehrenreich, Attorney Advisor, Federal Communications Commission, 445 12th Street SW., Washington, DC 20554, Phone: 202 418-1726, Email: eric.ehrenreich@fcc.gov.

RIN: 3060-AJ33

482. Wireless E911 Location Accuracy Requirements; PS Docket No. 07-114

Legal Authority: 47 U.S.C. 151; 47 U.S.C. 154; 47 U.S.C. 332

Abstract: Related to the proceedings in which the FCC has previously acted to improve the quality of all emergency services, this action requires wireless carriers to take steps to provide more specific automatic location information in connection with 911 emergency calls to Public Safety Answering Points (PSAPs) in areas where wireless carriers have not done so in the past. Wireless licensees must now satisfy amended Enhanced 911 location accuracy standards at either a county-based or a PSAP-based geographic level.

Timetable:

Action | Date | FR Cite
NPRM | 06/20/07 | 72 FR 33948
R&O | 02/14/08 | 73 FR 8617
Public Notice | 09/25/08 | 73 FR 55473
Public Notice | 11/18/09 | 74 FR 59539
2nd R&O | 11/18/10 | 75 FR 70604
Second NPRM | 08/04/11 | 76 FR 47114
Second NPRM Comment Period End | 11/02/11
FNPRM; NOI | 11/02/10 | 75 FR 67321
Final Rule | 04/28/11 | 76 FR 23713
3rd R&O | 09/28/11 | 76 FR 59916
Next Action Undetermined

Regulatory Flexibility Analysis Required: Yes.

Agency Contact: Tom Beers, Chief, Policy Division, Federal Communications Commission, Public Safety and Homeland Security Bureau, 445 12th Street SW., Washington, DC 20554, Phone: 202 418-0952, Email: tom.beers@fcc.gov.

RIN: 3060-AJ52

FEDERAL COMMUNICATIONS COMMISSION (FCC)

Wireless Telecommunications Bureau

Long-Term Actions

483. Reexamination of Roaming Obligations of Commercial Mobile Radio Service Providers

Legal Authority: 47 U.S.C. 151; 47 U.S.C. 152(n); 47 U.S.C. 154(i) and 154(j); 47 U.S.C. 201(b); 47 U.S.C. 251(a); 47 U.S.C. 253; 47 U.S.C. 303(r); 47 U.S.C. 332(c)(1)(B); 47 U.S.C. 309

Abstract: This rulemaking considers whether the Commission should adopt an automatic roaming rule for voice services for Commercial Mobile Radio Services and whether the Commission should adopt a roaming rule for mobile data services.

Timetable:

Action | Date | FR Cite
NPRM | 11/21/00 | 65 FR 69891
NPRM | 09/28/05 | 70 FR 56612
NPRM | 01/19/06 | 71 FR 3029
FNPRM | 08/30/07 | 72 FR 50085
Final Rule | 08/30/07 | 72 FR 50064
Final Rule | 04/28/10 | 75 FR 22263
FNPRM | 04/28/10 | 75 FR 22338
2nd R&O | 05/06/11 | 76 FR 26199
Next Action Undetermined

Regulatory Flexibility Analysis Required: Yes.

Agency Contact: Peter Trachtenberg, Assoc. Div. Chief SCPD, WTB, Federal Communications Commission, Wireless Telecommunications Bureau, 445 12th Street SW., Washington, DC 20554, Phone: 202 418-7369, Email: peter.trachtenberg@fcc.gov.

Christina Clearwater, Asst. Div. Chief, SCPD, WTB, Federal Communications Commission, Wireless Telecommunications Bureau, 445 12th Street SW., Washington, DC 20554, Phone: 202 418-1893, Email: christina.clearwater@fcc.gov.

RIN: 3060-AH83

484. Review of Part 87 of the Commission's Rules Concerning Aviation (WT Docket No. 01-289)

Legal Authority: 47 U.S.C. 154; 47 U.S.C. 303; 47 U.S.C. 307(e)

Abstract: This proceeding is intended to streamline, consolidate, and revise our part 87 rules governing the Aviation Radio Service. The rule changes are designed to ensure these rules reflect current technological advances.

Timetable:

Action | Date | FR Cite
NPRM | 10/16/01 | 66 FR 64785
NPRM Comment Period End | 03/14/02
R&O and FNPRM | 10/16/03
FNPRM | 04/12/04 | 69 FR 19140
FNPRM Comment Period End | 07/12/04
R&O | 06/14/04 | 69 FR 32577
NPRM | 12/06/06 | 71 FR 70710
NPRM Comment Period End | 03/06/07 |
Final Rule | 12/06/06 | 71 FR 70671
3rd R&O | 03/29/11 | 76 FR 17347
Stay Order | 03/29/11 | 76 FR 17353
Next Action Undetermined

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AI35

485. Implementation of the Commercial Spectrum Enhancement Act (CSEA) and Modernization of the Commission's Competitive Bidding Rules and Procedures (WT Docket No. 05-211)

Legal Authority: 15 U.S.C. 79; 47 U.S.C. 151; 47 U.S.C. 154(i) and (j); 47 U.S.C. 155; 47 U.S.C. 155(c); 47 U.S.C. 157; 47 U.S.C. 225; 47 U.S.C. 303(r); 47 U.S.C. 307; 47 U.S.C. 309; 47 U.S.C. 309(j); 47 U.S.C. 325(e); 47 U.S.C. 334; 47 U.S.C. 336; 47 U.S.C. 339; 47 U.S.C. 554

Abstract: This proceeding implements rules and procedures needed to comply with the recently enacted Commercial Spectrum Enhancement Act (CSEA). It establishes a mechanism for reimbursing Federal agencies out of spectrum auction proceeds for the cost of relocating their operations from certain “eligible frequencies” that have been reallocated from Federal to non-Federal use. It also seeks to improve the Commission's ability to achieve Congress' directives with regard to designated entities and to ensure that, in accordance with the intent of Congress, every recipient of its designated entity benefits is an entity that uses its licenses to directly provide facilities-based telecommunications services for the benefit of the public.

Timetable:

Action | Date | FR Cite
NPRM | 06/14/05 | 70 FR 43372
NPRM Comment Period End | 08/26/05
Declaratory Ruling | 06/14/05 | 70 FR 43322
R&O | 01/24/06 | 71 FR 6214
FNPRM | 02/03/06 | 71 FR 6992
FNPRM Comment Period End | 02/24/06
Second R&O | 04/25/06 | 71 FR 26245
Order on Recon of Second R&O | 06/02/06 | 71 FR 34272
NPRM | 06/21/06 | 71 FR 35594
NPRM Comment Period End | 08/21/06
Reply Comment Period End | 09/19/06
Second Order and Recon of Second R&O | 04/04/08 | 73 FR 18528
Order | 02/01/12 | 77 FR 16470
Next Action Undetermined

Regulatory Flexibility Analysis Required: Yes.

Agency Contact: Kelly Quinn, Assistant Chief, Auctions and Spectrum Access Division, Federal Communications Commission, 445 12th Street SW., Washington, DC 20554, Phone: 202 418-7384, Email: kelly.quinn@fcc.gov.

RIN: 3060-AI88

486. Facilitating the Provision of Fixed and Mobile Broadband Access, Educational, and Other Advanced Services in the 2150-2162 and 2500-2690 MHz Bands

Legal Authority: 47 U.S.C. 154; 47 U.S.C. 301 to 303; 47 U.S.C. 307; 47 U.S.C. 309; 47 U.S.C. 332; 47 U.S.C. 336 and 337

Abstract: The Commission seeks comment on whether to assign Educational Broadband Service (EBS) spectrum in the Gulf of Mexico. It also seeks comment on how to license unassigned and available EBS spectrum. Specifically, we seek comment on whether it would be in the public interest to develop a scheme for licensing unassigned EBS spectrum that avoids mutual exclusivity; we ask whether EBS eligible entities could participate fully in a spectrum auction; we seek comment on the use of small business size standards and bidding credits for EBS if we adopt a licensing scheme that could result in mutually exclusive applications; we seek comment on the proper market size and size of spectrum blocks for new EBS licenses; and we seek comment on issuing one license to a State agency designated by the Governor to be the spectrum manager, using frequency coordinators to avoid mutually exclusive EBS applications, as well as other alternative licensing schemes. The Commission must develop a new licensing scheme for EBS in order to achieve the Commission's goal of facilitating the development of new and innovative wireless services for the benefit of students throughout the nation.

In addition, the Commission has sought comment on a proposal intended to make it possible to use wider channel bandwidths for the provision of broadband services in these spectrum bands. The proposed changes may permit operators to use spectrum more efficiently, and to provide higher data rates to consumers, thereby advancing key goals of the National Broadband Plan.

Timetable:

Action | Date | FR Cite
NPRM | 04/02/03 | 68 FR 34560
NPRM Comment Period End | 09/08/03 |
FNPRM | 07/29/04 | 69 FR 72048
FNPRM Comment Period End | 01/10/03 |
R&O | 07/29/04 | 69 FR 72020
MO&O | 04/27/06 | 71 FR 35178
FNPRM | 03/20/08 | 73 FR 26067
FNPRM Comment Period End | 07/07/08 |
MO&O | 03/20/08 | 73 FR 26032
MO&O | 09/28/09 | 74 FR 49335
FNPRM | 09/28/09 | 74 FR 49356
FNPRM Comment Period End | 10/13/09 |
R&O | 06/03/10 | 75 FR 33729
FNPRM | 05/27/11 | 76 FR 32901
FNPRM Comment Period End | 07/22/11 |
Next Action Undetermined |  |

Regulatory Flexibility Analysis Required: Yes.

Agency Contact: John Schauble, Deputy Chief, Broadband Division, WTB, Federal Communications Commission, 445 12th Street SW., Washington, DC 20554, Phone: 202 418-0797, Email: john.schauble@fcc.gov.

RIN: 3060-AJ12

487. Amendment of the Rules Regarding Maritime Automatic Identification Systems (WT Docket No. 04-344)

Legal Authority: 47 U.S.C. 154; 47 U.S.C. 302(a); 47 U.S.C. 303; 47 U.S.C. 306; 47 U.S.C. 307(e); 47 U.S.C. 332; 47 U.S.C. 154(i); 47 U.S.C. 161

Abstract: This action adopts additional measures for domestic implementation of Automatic Identification Systems (AIS), an advanced marine vessel tracking and navigation technology that can significantly enhance our nation's homeland security as well as maritime safety.

Timetable:

Action | Date | FR Cite
Final Rule | 01/29/09 | 74 FR 5117
Final Rule Effective | 03/02/09 |
Petition for Recon | 04/03/09 | 74 FR 15271
Final Rule | 05/26/11 | 76 FR 33653
Next Action Undetermined |  |

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AJ16

488. Service Rules for Advanced Wireless Services in the 2155-2175 MHz Band

Legal Authority: 47 U.S.C. 151 and 152; 47 U.S.C. 154(i); 47 U.S.C. 157; 47 U.S.C. 160; 47 U.S.C. 201; 47 U.S.C. 214; 47 U.S.C. 301

Abstract: This proceeding explores the possible uses of the 2155-2175 MHz frequency band (AWS-3) to support the introduction of new advanced wireless services, including third generations as well as future generations of wireless systems. Advanced wireless systems could provide for a wide range of voice data and broadband services over a variety of mobile and fixed networks.

The Notice of Proposed Rulemaking (NPRM) sought comment on what service rules should be adopted in the AWS-3 band. We requested comment on rules for licensing this spectrum in a manner that will permit it to be fully and promptly utilized to bring advanced wireless services to American consumers. Our objective is to allow for the most effective and efficient use of the spectrum in this band, while also encouraging development of robust wireless broadband services. We proposed to apply our flexible, market-oriented rules to the band in order to meet this objective.

Thereafter, the Commission released a Further Notice of Proposed Rulemaking (FNPRM), seeking comment on the Commission's proposed AWS-3 rules, which include adding 5 megahertz of spectrum (2175-80 MHz) to the AWS-3 band, and requiring licensees of that spectrum to provide—using up to 25 percent of its wireless network capacity—free, two-way broadband Internet service at engineered data rates of at least 768 kbps downstream.

Timetable:

Action | Date | FR Cite
NPRM | 11/14/07 | 72 FR 64013
NPRM Comment Period End | 01/14/08 |
FNPRM | 06/25/08 | 73 FR 35995
FNPRM Comment Period End | 08/11/08 |
Next Action Undetermined |  |

Regulatory Flexibility Analysis Required: Yes.

Agency Contact: Peter Daronco, Associate Div. Chief, Broadband Div., Federal Communications Commission, Wireless Telecommunications Bureau, 445 12th Street SW., Washington, DC 20554, Phone: 202 418-7235, Email: peter.daronco@fcc.gov.

RIN: 3060-AJ19

489. Service Rules for Advanced Wireless Services in the 1915 to 1920 MHz, 1995 to 2000 MHz, 2020 to 2025 MHz, and 2175 to 2180 MH Bands

Legal Authority: 47 U.S.C. 151 and 152; 47 U.S.C. 154(i); 47 U.S.C. 157; 47 U.S.C. 160; 47 U.S.C. 201; 47 U.S.C. 214; 47 U.S.C. 301; * * *

Abstract: This proceeding explores the possible uses of the 1915-1920 MHz, 1995-2000 MHz, 2020-2025 MHz, and 2175-2180 MHz Bands (collectively AWS-2) to support the introduction of new advanced wireless services, including third generations as well as future generations of wireless systems. Advanced wireless systems could provide for a wide range of voice data and broadband services over a variety of mobile and fixed networks.

The Notice of Proposed Rulemaking (NPRM) sought comment on what service rules should be adopted in the AWS-2 band. We requested comment on rules for licensing this spectrum in a manner that will permit it to be fully and promptly utilized to bring advanced wireless services to American consumers. Our objective is to allow for the most effective and efficient use of the spectrum in this band, while also encouraging development of robust wireless broadband services.

Thereafter, the Commission released a Further Notice of Proposed Rulemaking (FNPRM), seeking comment on the Commission's proposed rules for the 1915-1920 MHz and 1995-2000 MHz bands. In addition, the Commission proposed to add 5 megahertz of spectrum (2175-80 MHz band) to the 2155-2175 MHz band, and would require the licensee of the 2155-2180 MHz band to provide—using up to 25 percent of its wireless network capacity—free, two-way broadband Internet service at engineered data rates of at least 768 kbps downstream.

Timetable:

Action | Date | FR Cite
NPRM | 11/02/04 | 69 FR 63489
NPRM Comment Period End | 01/24/05 |
FNPRM | 06/25/08 | 73 FR 35995
FNPRM Comment Period End | 08/11/08 |
Next Action Undetermined

Regulatory Flexibility Analysis Required: Yes.

Agency Contact: Peter Daronco, Associate Div. Chief, Broadband Div., Federal Communications Commission, Wireless Telecommunications Bureau, 445 12th Street SW., Washington, DC 20554, Phone: 202 418-7235, Email: peter.daronco@fcc.gov.

RIN: 3060-AJ20

490. Rules Authorizing the Operation of Low Power Auxiliary Stations in the 698-806 MHz Band, WT Docket No. 08-166; Public Interest Spectrum Coalition, Petition for Rulemaking Regarding Low Power Auxiliary

Legal Authority: 47 U.S.C. 151 and 152; 47 U.S.C. 154(i) and 154(j); 47 U.S.C. 301 and 302(a); 47 U.S.C. 303; 47 U.S.C. 303(r); 47 U.S.C. 304; 47 U.S.C. 307 to 309; 47 U.S.C. 316; 47 U.S.C. 332; 47 U.S.C. 336 and 337

Abstract: In the Notice of Proposed Rulemaking and Order, to facilitate the DTV transition the Commission tentatively concludes to amend its rules to make clear that the operation of low power auxiliary stations within the 700 MHz Band will no longer be permitted after the end of the DTV transition. The Commission also tentatively concludes to prohibit the manufacture, import, sale, offer for sale, or shipment of devices that operate as low power auxiliary stations in the 700 MHz Band. In addition, for those licensees that have obtained authorizations to operate low power auxiliary stations in spectrum that includes the 700 MHz Band beyond the end of the DTV transition, the Commission tentatively concludes that it will modify these licenses so as not to permit such operations in the 700 MHz Band after February 17, 2009. The Commission also seeks comment on issues raised by the Public Interest Spectrum Coalition (PISC) in its informal complaint and petition for rulemaking.

The Commission also imposes a freeze on the filing of new license applications that seek to operate on any 700 MHz Band frequencies (698-806 MHz) after the end of the DTV transition, February 17, 2009, as well as on granting any request for equipment authorization of low power auxiliary station devices that would operate in any of the 700 MHz Band frequencies. The Commission also holds in abeyance, until the conclusion of this proceeding, any pending license applications and equipment authorization requests that involve operation of low power auxiliary devices on frequencies in the 700 MHz Band after the end of the DTV transition.

On January 15, 2010, the Commission released a Report and Order that prohibits the distribution and sale of wireless microphones that operate in the 700 MHz Band (698-806 MHz, channels 52-69) and includes a number of provisions to clear these devices from that band. These actions help complete an important part of the DTV transition by clearing the 700 MHz Band to enable the rollout of communications services for public safety and the deployment of next generation wireless devices.

On January 15, 2010, the Commission also released a Further Notice of Proposed Rulemaking seeking comment on the operation of low power auxiliary stations, including wireless microphones, in the core TV bands (channels 2-51, excluding channel 37). Among the issues the Commission is considering in the Further Notice are revisions to its rules to expand eligibility for licenses to operate wireless microphones under part 74; the operation of wireless microphones on an unlicensed basis in the core TV bands under part 15; technical rules to apply to low power wireless audio devices, including wireless microphones, operating in the core TV bands on an unlicensed basis under part 15 of the rules; and long-term solutions to address the operation of wireless microphones and the efficient use of the core TV spectrum.

Timetable:

Action | Date | FR Cite
NPRM | 09/03/08 | 73 FR 51406
NPRM Comment Period End | 10/20/08 |
R&O | 01/22/10 | 75 FR 3622
FNPRM | 01/22/10 | 75 FR 3682
FNPRM Comment Period End | 03/22/10 |
Next Action Undetermined

Regulatory Flexibility Analysis Required: Yes.

Agency Contact: G. William Stafford, Attorney, Federal Communications Commission, 445 12th Street SW., Washington, DC 20554, Phone: 202 418-0563, Fax: 202 418-3956, Email: bill.stafford@fcc.gov.

RIN: 3060-AJ21

491. Amendment of the Commission's Rules To Improve Public Safety Communications in the 800 MHz Band, and To Consolidate the 800 MHz and 900 MHz Business and Industrial/Land Transportation Pool Channels

Legal Authority: 47 U.S.C. 151; 47 U.S.C. 154(i); 47 U.S.C. 303; 47 U.S.C. 309; 47 U.S.C. 332

Abstract: This action adopts rules that retain the current site-based licensing paradigm for the 900 MHz B/ILT “white space”; adopts interference protection rules applicable to all licensees operating in the 900 MHz B/ILT spectrum; and lifts, on a rolling basis, the freeze placed on applications for new 900 MHz B/ILT licenses in September 2004—the lift being tied to the completion of rebanding in each 800 MHz National Public Safety Planning Advisory Committee (NPSPAC) region.

Timetable:

Action | Date | FR Cite
NPRM | 03/18/05 | 70 FR 13143
NPRM Comment Period End | 06/12/05 | 70 FR 23080
Final Rule | 12/16/08 | 73 FR 67794
Petition for Recon | 03/12/09 | 74 FR 10739
Next Action Undetermined

Regulatory Flexibility Analysis Required: Yes.

Agency Contact: Katherine M. Harris, Deputy Chief, Commercial Wireless Division, WTB, Federal Communications Commission, Wireless Bureau, 445 12th Street SW., Washington, DC 20554, Phone: 202 418-0609, Fax: 202 418-7224, Email: kharris@fcc.gov.

RIN: 3060-AJ22

492. Amendment of Part 101 To Accommodate 30 MHz Channels in the 6525-6875 MHz Band and Provide Conditional Authorization on Channels in the 21.8-22.0 and 23.0-23.2 GHz Band (WT Docket No. 04-114)

Legal Authority: 47 U.S.C. 151 and 152; 47 U.S.C. 154(i); 47 U.S.C. 157; 47 U.S.C. 160; 47 U.S.C. 201; 47 U.S.C. 214; 47 U.S.C. 301 to 303; 47 U.S.C. 307 to 310; 47 U.S.C. 319; 47 U.S.C. 324; 47 U.S.C. 332 and 333

Abstract: The Commission seeks comments on modifying its rules to authorize channels with bandwidths of as much as 30 MHz in the 6525-6875 MHz band. We also propose to allow conditional authorization on additional channels in the 21.8-22.0 and 23.0-23.2 GHz bands.

Timetable:

Action | Date | FR Cite
NPRM | 06/29/09 | 74 FR 36134
NPRM Comment Period End | 07/22/09 |
R&O | 06/11/10 | 75 FR 41767
Next Action Undetermined |  |

Regulatory Flexibility Analysis Required: Yes.

Agency Contact: John Schauble, Deputy Chief, Broadband Division, WTB, Federal Communications Commission, 445 12th Street SW., Washington, DC 20554, Phone: 202 418-0797, Email: john.schauble@fcc.gov.

RIN: 3060-AJ28

493. In the Matter of Service Rules for the 698 to 746, 747 to 762, and 777 to 792 MHz Bands

Legal Authority: 47 U.S.C. 151; 47 U.S.C. 154(i); 47 U.S.C. 303(r); 47 U.S.C. 309

Abstract: This is one of several docketed proceedings involved in the establishment of rules governing wireless licenses in the 698-806 MHz Band (the 700 MHz Band). This spectrum is being vacated by television broadcasters in TV Channels 52-69. It is being made available for wireless services, including public safety and commercial services, as a result of the digital television (DTV) transition. This docket has to do with service rules for the commercial services, and is known as the 700 MHz Commercial Services proceeding.

Timetable:

Action | Date | FR Cite
NPRM | 08/03/06 | 71 FR 48506
NPRM | 09/20/06 |
FNPRM | 05/02/07 | 72 FR 24238
FNPRM Comment Period End | 05/23/07 |
R&O | 07/31/07 | 72 FR 48814
Order on Recon | 09/24/07 | 72 FR 56015
Second FNPRM | 05/14/08 | 73 FR 29582
Second FNPRM Comment Period End | 06/20/08 |
Third FNPRM | 09/05/08 | 73 FR 57750
Third FNPRM Comment Period End | 11/03/08 |
Second R&O | 02/20/09 | 74 FR 8868
Final Rule | 03/04/09 | 74 FR 8868
Next Action Undetermined |  |

Regulatory Flexibility Analysis Required: Yes.

Agency Contact: Paul D'Ari, Spectrum and Competition Policy Division, Wireless Bureau, Federal Communications Commission, 445 12th Street SW., Washington, DC 20554, Phone: 202 418-1550, Fax: 202 418-7447, Email: paul.dari@fcc.gov.

RIN: 3060-AJ35

494. National Environmental Act Compliance for Proposed Tower Registrations; in the Matter of Effects on Migratory Birds

Legal Authority: 47 U.S.C. 151; 47 U.S.C. 154(i); 47 U.S.C. 303(q); 47 U.S.C. 303(r); 47 U.S.C. 309(g); 42 U.S.C. 4321 et seq.

Abstract: On April 14, 2009, American Bird Conservancy, Defenders of Wildlife, and National Audubon Society filed a Petition for Expedited Rulemaking and Other Relief. The petitioners request that the Commission adopt on an expedited basis a variety of new rules, which they assert are necessary to comply with environmental statutes and their implementing regulations. This proceeding addresses the Petition for Expedited Rulemaking and Other Relief.

Timetable:

Action | Date | FR Cite
NPRM | 11/22/06 | 71 FR 67510
NPRM Comment Period End | 02/20/07 |
New NPRM Comment Period End | 05/23/07 |
Order on Remand | 01/26/12 | 77 FR 3935
Next Action Undetermined |  |

Regulatory Flexibility Analysis Required: Yes.

Agency Contact: Jeff Steinberg, Deputy Chief, Spectrum and Competition Div, WTB, Federal Communications Commission, Wireless Telecommunications Bureau, 445 12th Street SW., Washington, DC 20554, Phone: 202 418-0896.

RIN: 3060-AJ36

495. Amendment of Part 90 of the Commission's Rules

Legal Authority: 47 U.S.C. 154; 47 U.S.C. 303

Abstract: This proceeding considers rule changes impacting miscellaneous part 90 Private Land Mobile Radio rules.

Timetable:

Action | Date | FR Cite
NPRM | 06/13/07 | 72 FR 32582
FNPRM | 04/14/10 | 75 FR 19340
Order on Recon (Release Date) | 06/07/10 |
Next Action Undetermined |  |

Regulatory Flexibility Analysis Required: Yes.

Agency Contact: Rodney P. Conway, Engineer, Federal Communications Commission, Wireless Telecommunications Bureau, 445 12th Street SW., Washington, DC 20554, Phone: 202 418-2904, Fax: 202 418-1944, Email: rodney.conway@fcc.gov.

RIN: 3060-AJ37

496. Amendment of Part 101 of the Commission's Rules for Microwave Use and Broadcast Auxiliary Service Flexibility

Legal Authority: 47 U.S.C. 151 and 152; 47 U.S.C. 154(i) and 157; 47 U.S.C. 160 and 201; 47 U.S.C. 214; 47 U.S.C. 301 to 303; 47 U.S.C. 307 to 310; 47 U.S.C. 319 and 324; 47 U.S.C. 332 and 333

Abstract: In this document, the Commission commences a proceeding to remove regulatory barriers to the use of spectrum for wireless backhaul and other point-to-point and point-to-multipoint communications.

Timetable:

Action | Date | FR Cite
NPRM | 08/05/10 | 75 FR 52185
NPRM Comment Period End | 11/22/10 |
R&O | 09/27/11 | 76 FR 59559
FNPRM | 09/27/11 | 76 FR 59614
FNPRM Comment Period End | 10/25/11 |
R&O | 09/05/12 | 77 FR 54421
FNPRM | 09/05/12 | 77 FR 54511
FNPRM Comment Period End | 10/22/12 |
Next Action Undetermined |  |

Regulatory Flexibility Analysis Required: Yes.

Agency Contact: John Schauble, Deputy Chief, Broadband Division, WTB, Federal Communications Commission, 445 12th Street SW., Washington, DC 20554, Phone: 202 418-0797, Email: john.schauble@fcc.gov.

RIN: 3060-AJ47

497. 2004 and 2006 Biennial Regulatory Reviews—Streamlining and Other Revisions of the Commission's Rules Governing Construction, Marking, and Lighting of Antenna Structures

Legal Authority: 47 U.S.C. 154(i)-(j) and 161; 47 U.S.C. 303(q)

Abstract: In this NPRM, in WT Docket No. 10-88, the Commission seeks comment on revisions to part 17 of the Commission's rules governing construction, marking, and lighting of antenna structures. The Commission initiated this proceeding to update and modernize the part 17 rules. These proposed revisions are intended to improve compliance with these rules and allow the Commission to enforce them more effectively, helping to better ensure the safety of pilots and aircraft passengers nationwide. The proposed revisions would also remove outdated and burdensome requirements without compromising the Commission's statutory responsibility to prevent antenna structures from being hazards or menaces to air navigation.

Timetable:

Action | Date | FR Cite
NPRM | 05/21/10 | 75 FR 28517
NPRM Comment Period End | 07/20/10 |
NPRM Reply Comment Period End | 08/19/10 |
Next Action Undetermined |  |

Regulatory Flexibility Analysis Required: Yes.

Agency Contact: John Borkowski, Attorney-Advisor, Federal Communications Commission, 2025 M Street NW., Washington, DC 20554, Phone: 202 634-2443.

RIN: 3060-AJ50

498. Universal Service Reform Mobility Fund (WT Docket No. 10-208)

Legal Authority: 47 U.S.C. 151; 47 U.S.C. 154(i); 47 U.S.C. 155; 47 U.S.C. 160; 47 U.S.C. 201; 47 U.S.C. 205; 47 U.S.C. 225; 47 U.S.C. 254; 47 U.S.C. 301; 47 U.S.C. 303; 47 U.S.C. 303(c); 47 U.S.C. 303(f); 47 U.S.C. 303(r); 47 U.S.C. 303(y); 47 U.S.C. 309; 47 U.S.C. 310

Abstract: This proceeding proposes the creation of the Mobility Fund to provide an initial infusion of funds toward solving persistent gaps in mobile services through targeted, one-time support for the build-out of current-and next-generation wireless infrastructure in areas where these services are unavailable.

Timetable:

Action | Date | FR Cite
NPRM | 10/14/10 | 75 FR 67060
NPRM Comment Period End | 01/18/11 |
R&O | 11/29/11 | 76 FR 73830
FNPRM | 12/16/11 | 76 FR 78384
R&O | 12/28/11 | 76 FR 81562
2nd R&O | 07/03/12 | 77 FR 39435
4th Order on Recon | 08/14/12 | 77 FR 48453
Next Action Undetermined |  |

Regulatory Flexibility Analysis Required: Yes.

Agency Contact: Scott Mackoul, Attorney Advisor, Federal Communications Commission, Wireless Telecommunications Bureau, 445 12th Street SW., Washington, DC 20554, Phone: 202 418-0660.

RIN: 3060-AJ58

499. Fixed and Mobile Services in the Mobile Satellite Service Bands at 1525-1559 MHz and 1626.5-1660.5 MHz, 1610-1626.5 MHz and 2483.5-2500 MHz, and 2000-2020 MHz and 2180-2200 MHz

Legal Authority: 47 U.S.C. 151 and 154; 47 U.S.C. 303 and 310

Abstract: The Commission proposes steps to make additional spectrum available for new investment in mobile broadband networks while ensuring that the United States maintains robust mobile satellite service capabilities. Mobile broadband is emerging as one of America's most dynamic innovation and economic platforms. Yet tremendous demand growth will soon test the limits of spectrum availability. 90 megahertz of spectrum allocated to the Mobile Satellite Service (MSS)—in the 2 GHz band, Big LEO band, and L-band—are potentially available for terrestrial mobile broadband use. The Commission seeks to remove regulatory barriers to terrestrial use, and to promote additional investments, such as those recently made possible by a transaction between Harbinger Capital Partners and SkyTerra Communications, while retaining sufficient market-wide MSS capability. The Commission proposes to add co-primary Fixed and Mobile allocations to the 2 GHz band, consistent with the International Table of Allocations. This allocation modification is a precondition for more flexible licensing of terrestrial services within the band. Second, the Commission proposes to apply the Commission's secondary market policies and rules applicable to terrestrial services to all transactions involving the use of MSS bands for terrestrial services in order to create greater predictability and regulatory parity with bands licensed for terrestrial mobile broadband service. The Commission also requests comment on further steps we can take to increase the value, utilization, innovation, and investment in MSS spectrum generally.

Timetable:

Action | Date | FR Cite
NPRM | 07/15/10 | 75 FR 49871
NPRM Comment Period End | 09/30/10 |
R&O | 04/06/11 | 76 FR 31252
Next Action Undetermined |  |

Regulatory Flexibility Analysis Required: Yes.

Agency Contact: Jeremy Marcus, Asst. Division Chief, Broadband Div., Federal Communications Commission, Wireless Telecommunications Bureau, 445 12th Street SW., Washington, DC 20554, Phone: 202 418-0059, Fax: 202 418-7257, Email: jeremy.marcus@fcc.gov.

RIN: 3060-AJ59

500. Improving Spectrum Efficiency Through Flexible Channel Spacing and Bandwidth Utilization for Economic Area-Based 800 MHz Specialized Mobile Radio Licensees; WT Docket Nos. 12-64 and 11-110

Legal Authority: 47 U.S.C. 151; 47 U.S.C. 152; 47 U.S.C. 154; 47 U.S.C. 301; 47 U.S.C. 302(a); 47 U.S.C. 303; 47 U.S.C. 307; 47 U.S.C. 308

Abstract: This proceeding was initiated to allow EA-based 800 MHz SMR Licensees in 813.5-824/858.5-869 MHz to exceed the channel spacing and bandwidth limitation in Section 90.209 of the Commission's rules subject to conditions.

Timetable:

Action | Date | FR Cite
NPRM | 03/29/12 | 77 FR 18991
NPRM Comment Period End | 04/13/12 |
R&O | 05/24/12 | 77 FR 33972
Petition for Recon Public Notice | 08/16/12 | 77 FR 53163
Petition for Recon PN Comment Period End | 09/27/12 |
Next Action Undetermined |  |

Regulatory Flexibility Analysis Required: Yes.

Agency Contact: Mr. Brian Regan, Federal Communications Commission, 445 12th Street SW., Washington, DC 20554, Phone: 202 418-2849, Email: brian.regan@fcc.gov.

RIN: 3060-AJ71

501. Service Rules for Advanced Wireless Services in the 2000-2020 MHz and 2180-2200 MHz Bands

Legal Authority: 47 U.S.C. 151; 47 U.S.C. 153; 47 U.S.C. 154(i); 47 U.S.C. 227; 47 U.S.C. 301; 47 U.S.C. 302; 47 U.S.C. 303; 47 U.S.C. 307; 47 U.S.C. 308; 47 U.S.C. 309; 47 U.S.C. 310; 47 U.S.C. 316; 47 U.S.C. 319; 47 U.S.C. 324; 47 U.S.C. 332; 47 U.S.C. 333

Abstract: In this Notice of Proposed Rulemaking, the Commission proposes to increase the Nation's supply of spectrum for mobile broadband by removing unnecessary barriers to flexible use of spectrum currently assigned to the Mobile Satellite Service (MSS) in the 2 GHz band. This proposal would carry out a recommendation in the National Broadband Plan that the Commission enable the provision of stand-alone terrestrial services in this spectrum. We do so by proposing service, technical, assignment, and licensing rules for this spectrum. These proposed rules are designed to provide for flexible use of this spectrum, to encourage innovation and investment in mobile broadband, and to provide a stable regulatory environment in which broadband deployment could develop. Additionally, in our Notice of Inquiry, we seek comment on potential ways to free up additional valuable spectrum to address the Nation's growing demand for mobile broadband spectrum.

Timetable:

Action | Date | FR Cite
NPRM Comment Period End | 04/17/12 |
NPRM | 04/17/12 | 77 FR 22720
Next Action Undetermined |  |

Regulatory Flexibility Analysis Required: Yes.

Agency Contact: Jeremy Marcus, Asst. Division Chief, Broadband Div., Federal Communications Commission, Wireless Telecommunications Bureau, 445 12th Street SW., Washington, DC 20554, Phone: 202 418-0059, Fax: 202 418-7257, Email: jeremy.marcus@fcc.gov.

RIN: 3060-AJ73

502. Promoting Interoperability in the 700 MHz Commercial Spectrum; Interoperability of Mobile User Equipment Across Paired Commercial Spectrum Blocks in the 700 MHz Band

Legal Authority: 47 U.S.C. 151; 47 U.S.C. 152; 47 U.S.C. 154(i); 47 U.S.C. 154 (j); 47 U.S.C. 301; 47 U.S.C. 302(a); 47 U.S.C. 303(b); 47 U.S.C. 303(e); 47 U.S.C. 303(f); 47 U.S.C. 303(g); 47 U.S.C. 303(r); 47 U.S.C. 304; 47 U.S.C. 307(a); 47 U.S.C. 309(j)(3); 47 U.S.C. 316(a)(1); 47 CFR 1.401 et seq.

Abstract: The Commission seeks comment on whether the customers of lower 700 MHz B and C block licensees would experience harmful interference—and if so, to what degree, if the lower 700 MHz band were interoperable. The Commission also explores the next steps should it find that interoperability would cause limited or no harmful interference to lower 700 MHz B and C block licensees, or that such interference can reasonably be mitigated through industry efforts and/or through modifications to the Commission's technical rules or other regulatory measures.

Timetable:

Action | Date | FR Cite
NPRM | 04/02/12 | 77 FR 19575
NPRM Comment Period End | 06/01/12 |
Next Action Undetermined |  |

Regulatory Flexibility Analysis Required: Yes.

Agency Contact: Brenda Boykin, Federal Communications Commission, 445 12th Street SW., Washington, DC 20554, Phone: 202 418-2062, Email: brenda.boykin@fcc.gov.

RIN: 3060-AJ78

FEDERAL COMMUNICATIONS COMMISSION (FCC)

Wireless Telecommunications Bureau

Completed Actions

503. Amendment of Parts 13 and 80 of the Commission's Rules Governing Maritime Communications

Legal Authority: 47 U.S.C. 302 to 303

Abstract: This matter concerns the amendment of the rules governing maritime communications in order to consolidate, revise, and streamline the regulations as well as address new international requirements and improve the operational ability of all users of marine radios.

Timetable:

Action | Date | FR Cite
NPRM | 03/24/00 | 65 FR 21694
NPRM | 08/17/00 | 65 FR 50173
NPRM | 05/17/02 | 67 FR 35086
Report & Order | 08/07/03 | 68 FR 46957
Second R&O, Sixth R&O, Second FNPRM | 04/06/04 | 69 FR 18007
Comments Due | 06/07/04 |
Reply Comments Due | 07/06/04 |
Second R&O and Sixth R&O | 11/08/04 | 69 FR 64664
NPRM | 11/08/06 | 71 FR 65447
Final Action | 01/25/08 | 73 FR 4475
Petition for Reconsideration | 03/18/08 | 73 FR 14486
4th R&O [Release Date] | 06/10/10 |

Regulatory Flexibility Analysis Required: Yes.

Agency Contact: Jeff Tobias, Attorney Advisor, Federal Communications Commission, Wireless Telecommunications Bureau, 445 12th Street SW., Washington, DC 20554, Phone: 202 418-0680, Email: jeff.tobias@fcc.gov.

RIN: 3060-AH55

FEDERAL COMMUNICATIONS COMMISSION (FCC)

Wireline Competition Bureau

Long-Term Actions

504. Implementation of the Universal Service Portions of the 1996 Telecommunications Act

Legal Authority: 47 U.S.C. 151 et seq.

Abstract: The goals of Universal Service, as mandated by the 1996 Act, are to promote the availability of quality services at just, reasonable, and affordable rates; increase access to advanced telecommunications services throughout the Nation; advance the availability of such services to all consumers, including those in low income, rural, insular, and high cost areas at rates that are reasonably comparable to those charged in urban areas. In addition, the 1996 Act states that all providers of telecommunications services should contribute to Federal universal service in some equitable and nondiscriminatory manner; there should be specific, predictable, and sufficient Federal and State mechanisms to preserve and advance universal service; all schools, classrooms, health care providers, and libraries should, generally, have access to advanced telecommunications services; and finally, that the Federal-State Joint Board and the Commission should determine those other principles that, consistent with the 1996 Act, are necessary to protect the public interest. More recently, modernization efforts for continuous improvements to the universal service programs are being realized consistent and in keeping with the goals envisioned by the National Broadband Plan.

On February 19, 2010, the Commission released an Order and Notice of Proposed Rulemaking that enabled schools that receive funding from the E-rate program to allow members of the general public to use the schools' Internet access during non-operating hours through funding year 2010 (July 1, 2010 through June 30, 2011) and sought comment on revising its rules to make this change permanent.

On March 18, 2010, the Commission issued a Report & Order and Memorandum Opinion & Order. In this order, the Commission addressed an inequitable asymmetry in the Commission's current rules governing the receipt of universal service high-cost local switching support (LSS) by small incumbent local exchange carriers (LECs). By modifying the Commission's rules to permit incumbent LECs that lose lines to receive additional LSS when they cross a threshold, the order provides LSS to all small LECs on the same basis. Nothing in the order is intended to address the long-term role of LSS in the Commission's high-cost universal service policies, which the Commission is considering as part of comprehensive universal service reform. April 16, 2010, the Commission issued an Order and NPRM addressing high-cost universal service support for non-rural carriers serving insular areas. In the NPRM, the Commission sought comment on amending its rules to provide additional low-income support in Puerto Rico.

On April 21, 2010, the Commission issued a Notice of Inquiry and Notice of Proposed Rulemaking, the first in a series of proceedings to kick off universal service support reform that is key to making broadband service available for millions of Americans who lack access. This NOI and NPRM sought comment on first steps to reform the distribution of universal service high-cost support.

Timetable:

Action | Date | FR Cite
Recommended Decision Federal-State Joint Board, Universal Service | 11/08/96 | 61 FR 63778
First R&O | 05/08/97 | 62 FR 32862
Second R&O | 05/08/97 | 62 FR 32862
Order on Recon | 07/10/97 | 62 FR 40742
R&O and Second Order on Recon | 07/18/97 | 62 FR 41294
Second R&O, and FNPRM | 08/15/97 | 62 FR 47404
Third R&O | 10/14/97 | 62 FR 56118
Second Order on Recon | 11/26/97 | 62 FR 65036
Fourth Order on Recon | 12/30/97 | 62 FR 2093
Fifth Order on Recon | 06/22/98 | 63 FR 43088
Fifth R&O | 10/28/98 | 63 FR 63993
Eighth Order on Recon | 11/21/98
Second Recommended Decision | 11/25/98 | 63 FR 67837
Thirteenth Order on Recon | 06/09/99 | 64 FR 30917
FNPRM | 06/14/99 | 64 FR 31780
FNPRM | 09/30/99 | 64 FR 52738
Fourteenth Order on Recon | 11/16/99 | 64 FR 62120
Fifteenth Order on Recon | 11/30/99 | 64 FR 66778
Tenth R&O | 12/01/99 | 64 FR 67372
Ninth R&O and Eighteenth Order on Recon | 12/01/99 | 64 FR 67416
Nineteenth Order on Recon | 12/30/99 | 64 FR 73427
Twentieth Order on Recon | 05/08/00 | 65 FR 26513
Public Notice | 07/18/00 | 65 FR 44507
Twelfth R&O, MO&O and FNPRM | 08/04/00 | 65 FR 47883
FNPRM and Order | 11/09/00 | 65 FR 67322
FNPRM | 01/26/01 | 66 FR 7867
R&O and Order on Recon | 03/14/01 | 66 FR 16144
NPRM | 05/08/01 | 66 FR 28718
Order | 05/22/01 | 66 FR 35107
Fourteenth R&O and FNPRM | 05/23/01 | 66 FR 30080
FNPRM and Order | 01/25/02 | 67 FR 7327
NPRM | 02/15/02 | 67 FR 9232
NPRM and Order | 02/15/02 | 67 FR 10846
FNPRM and R&O | 02/26/02 | 67 FR 11254
NPRM | 04/19/02 | 67 FR 34653
Order and Second FNPRM | 12/13/02 | 67 FR 79543
NPRM | 02/25/03 | 68 FR 12020
Public Notice | 02/26/03 | 68 FR 10724
Second R&O and FNPRM | 06/20/03 | 68 FR 36961
Twenty-Fifth Order on Recon, R&O, Order, and FNPRM | 07/16/03 | 68 FR 41996
NPRM | 07/17/03 | 68 FR 42333
Order | 07/24/03 | 68 FR 47453
Order | 08/06/03 | 68 FR 46500
Order and Order on Recon | 08/19/03 | 68 FR 49707
Order on Remand, MO&O, FNPRM | 10/27/03 | 68 FR 69641
R&O, Order on Recon, FNPRM | 11/17/03 | 68 FR 74492
R&O, FNPRM | 02/26/04 | 69 FR 13794
R&O, FNPRM | 04/29/04 |
NPRM | 05/14/04 | 69 FR 3130
NPRM | 06/08/04 | 69 FR 40839
Order | 06/28/04 | 69 FR 48232
Order on Recon & Fourth R&O | 07/30/04 | 69 FR 55983
Fifth R&O and Order | 08/13/04 | 69 FR 55097
Order | 08/26/04 | 69 FR 57289
Second FNPRM | 09/16/04 | 69 FR 61334
Order & Order on Recon | 01/10/05 | 70 FR 10057
Sixth R&O | 03/14/05 | 70 FR 19321
R&O | 03/17/05 | 70 FR 29960
MO&O | 03/30/05 | 70 FR 21779
NPRM & FNPRM | 06/14/05 | 70 FR 41658
Order | 10/14/05 | 70 FR 65850
Order | 10/27/05
NPRM | 01/11/06 | 71 FR 1721
Report Number 2747 | 01/12/06 | 71 FR 2042
Order | 02/08/06 | 71 FR 6485
FNPRM | 03/15/06 | 71 FR 13393
R&O and NPRM | 07/10/06 | 71 FR 38781
Order | 01/01/06 | 71 FR 6485
Order | 05/16/06 | 71 FR 30298
MO&O and FNPRM | 05/16/06 | 71 FR 29843
R&O | 06/27/06 | 71 FR 38781
Public Notice | 08/11/06 | 71 FR 50420
Order | 09/29/06 | 71 FR 65517
Public Notice | 03/12/07 | 72 FR 36706
Public Notice | 03/13/07 | 72 FR 40816
Public Notice | 03/16/07 | 72 FR 39421
Notice of Inquiry | 04/16/07
NPRM | 05/14/07 | 72 FR 28936
Recommended Decision | 11/20/07
Order | 02/14/08 | 73 FR 8670
NPRM | 03/04/08 | 73 FR 11580
NPRM | 03/04/08 | 73 FR 11591
R&O | 05/05/08 | 73 FR 11837
Public Notice | 07/02/08 | 73 FR 37882
NPRM | 08/19/08 | 73 FR 48352
Notice of Inquiry | 10/14/08 | 73 FR 60689
Order on Remand, R&O, FNPRM | 11/12/08 | 73 FR 66821
R&O | 05/22/09 | 74 FR 2395
Order & NPRM | 03/24/10 | 75 FR 10199
R&O and MO&O | 04/08/10 | 75 FR 17872
NOI and NPRM | 05/13/10 | 75 FR 26906
Order and NPRM | 05/28/10 | 75 FR 30024
NPRM | 06/09/10 | 75 FR 32699
NPRM | 08/09/10 | 75 FR 48236
NPRM | 09/21/10 | 75 FR 56494
R&O | 12/03/10 | 75 FR 75393
Order | 01/27/11 | 76 FR 4827
NPRM | 03/02/11 | 76 FR 11407
NPRM | 03/02/11 | 76 FR 11632
NPRM | 03/23/11 | 76 FR 16482
Order and NPRM | 06/27/11 | 76 FR 37307
R&O | 12/28/11 | 76 FR 81562
Order | 03/09/12 | 77 FR 14297
R&O | 03/30/12 | 77 FR 19125
Order | 05/23/12 | 77 FR 30411
3rd Order on Recon | 05/24/12 | 77 FR 30904
Public Notice | 05/31/12 | 77 FR 32113
FNPRM | 06/07/12 | 77 FR 33896
Public Notice | 07/26/12 | 77 FR 43773
Order | 08/30/12 | 77 FR 52616
Next Action Undetermined

Regulatory Flexibility Analysis Required: Yes.

Agency Contact: Nakesha Woodward, Program Support Assistant, Federal Communications Commission, 445 12th Street SW., Washington, DC 20554, Phone: 202 418-1502, Email:kesha.woodward@fcc.gov.

RIN: 3060-AF85

505. 2000 Biennial Regulatory Review—Telecommunications Service Quality Reporting Requirements

Legal Authority: 47 U.S.C. 154(i) and 154(j); 47 U.S.C. 201(b); 47 U.S.C. 303(r); 47 U.S.C. 403

Abstract: This NPRM proposes to eliminate our current service quality reports (ARMIS Report 43-05 and 43-06) and replace them with a more consumer-oriented report. The NPRM proposes to reduce the reporting categories from more than 30 to 6, and addresses the needs of carriers, consumers, state public utility commissions, and other interested parties.

On February 15, 2005, the Commission adopted an Order that extended the Federal-State Joint Conference on Accounting Issues until March 1, 2007.

Timetable:

Action | Date | FR Cite
NPRM | 12/04/00 | 65 FR 75657
Order | 02/06/02 | 67 FR 5670
Order | 03/22/05 | 70 FR 14466
Next Action Undetermined

Regulatory Flexibility Analysis Required: Yes.

Agency Contact: Cathy Zima, Deputy Chief, Industry Analysis Div., WCB, Federal Communications Commission, Wireline Competition Bureau, 445 12th Street SW., Washington, DC 20554, Phone: 202 418-7380, Fax: 202 418-6768, Email: cathy.zima@fcc.gov.

RIN: 3060-AH72

506. Access Charge Reform and Universal Service Reform

Legal Authority: 47 U.S.C. 151; 47 U.S.C. 154(i) and 154(j); 47 U.S.C. 201 to 205; 47 U.S.C. 254; 47 U.S.C. 403

Abstract: On October 11, 2001, the Commission adopted an Order reforming the interstate access charge and universal service support system for rate-of-return incumbent carriers. The Order adopts three principal reforms. First, the Order modifies the interstate access rate structure for small carriers to align it more closely with the manner in which costs are incurred. Second, the Order removes implicit support for universal service from the rate structure and replaces it with explicit, portable support. Third, the Order permits small carriers to continue to set rates based on the authorized rate of return of 11.25 percent. The Order became effective on January 1, 2002, and the support mechanism established by the Order was implemented beginning July 1, 2002.

The Commission also adopted a Further Notice of Proposed Rulemaking (FNPRM) seeking additional comment on proposals for incentive regulation, increased pricing flexibility for rate-of-return carriers, and proposed changes to the Commission's “all-or-nothing” rule. Comments on the FNPRM were due on February 14, 2002, and reply comments on March 18, 2002.

On February 12, 2004, the Commission adopted a Second Report and Order resolving several issues on which the Commission sought comment in the FNPRM. First, the Commission modified the “all-or-nothing” rule to permit rate-of-return carriers to bring recently acquired price cap lines back to rate-of-return regulation. Second, the Commission granted rate-of-return carriers the authority immediately to provide geographically deaveraged transport and special access rates, subject to certain limitations. Third, the Commission merged Long Term Support (LTS) with Interstate Common Line Support (ICLS).

The Commission also adopted a Second FNPRM seeking comment on two specific plans that propose establishing optional alternative regulation mechanisms for rate-of-return carriers. In conjunction with the consideration of those alternative regulation proposals, the Commission sought comment on modification that would permit a rate-of-return carrier to adopt an alternative regulation plan for some study areas, while retaining rate-of-return regulation for other of its study areas. Comments on the Second FNPRM were due on April 23, 2004, and May 10, 2004.

Timetable:

Action | Date | FR Cite
NPRM | 01/25/01 | 66 FR 7725
NPRM Comment Period End | 02/26/01
FNPRM | 11/30/01 | 66 FR 59761
FNPRM Comment Period End | 12/31/01
R&O | 11/30/01 | 66 FR 59719
Second FNPRM | 03/23/04 | 69 FR 13794
Second FNPRM Comment Period End | 04/23/04
Order | 05/06/04 | 69 FR 25325
Next Action Undetermined

Regulatory Flexibility Analysis Required: Yes.

Agency Contact: Douglas Slotten, Attorney-Advisor, Federal Communications Commission, Wireline Competition Bureau, 445 12th Street SW., Washington, DC 20554, Phone: 202 418-1572, Email: douglas.slotten@fcc.gov.

RIN: 3060-AH74

507. National Exchange Carrier Association Petition

Legal Authority: 47 U.S.C. 151 and 152; 47 U.S.C. 201 and 202; * * *

Abstract: In a Notice of Proposed Rulemaking (NPRM) released on July 19, 2004, the Commission initiated a rulemaking proceeding to examine the proper number of end user common line charges (commonly referred to as subscriber line charges or SLCs) that carriers may assess upon customers that obtain derived channel T-1 service where the customer provides the terminating channelization equipment and upon customers that obtain Primary Rate Interface (PRI) Integrated Service Digital Network (ISDN) service.

Timetable:

Action | Date | FR Cite
NPRM | 08/13/04 | 69 FR 50141
NPRM Comment Period End | 11/12/04
Next Action Undetermined

Regulatory Flexibility Analysis Required: Yes.

Agency Contact: Douglas Slotten, Attorney-Advisor, Federal Communications Commission, Wireline Competition Bureau, 445 12th Street SW., Washington, DC 20554, Phone: 202 418-1572, Email: douglas.slotten@fcc.gov.

RIN: 3060-AI47

508. IP-Enabled Services

Legal Authority: 47 U.S.C. 151 and 152; * * *

Abstract: The notice seeks comment on ways in which the Commission might categorize or regulate IP-enabled services. It poses questions regarding the proper allocation of jurisdiction over each category of IP-enabled service. The notice then requests comment on whether the services comprising each category constitute “telecommunications services” or “information services” under the definitions set forth in the Act. Finally, noting the Commission's statutory forbearance authority and title I ancillary jurisdiction, the notice describes a number of central regulatory requirements (including, for example, those relating to access charges, universal service, E911, and disability accessibility), and asks which, if any, should apply to each category of IP-enabled services.

Timetable:

Action | Date | FR Cite
NPRM | 03/29/04 | 69 FR 16193
NPRM Comment Period End | 07/14/04 |
First R&O | 06/03/05 | 70 FR 37273
Public Notice | 06/16/05 | 70 FR 37403
First R&O Effective | 07/29/05 | 70 FR 43323
Public Notice | 08/31/05 | 70 FR 51815
R&O | 07/10/06 | 71 FR 38781
R&O and FNPRM | 06/08/07 | 72 FR 31948
FNPRM Comment Period End | 07/09/07 | 72 FR 31782
R&O | 08/06/07 | 72 FR 43546
Public Notice | 08/07/07 | 72 FR 44136
R&O | 08/16/07 | 72 FR 45908
Public Notice | 11/01/07 | 72 FR 61813
Public Notice | 11/01/07 | 72 FR 61882
Public Notice | 12/13/07 | 72 FR 70808
Public Notice | 12/20/07 | 72 FR 72358
R&O | 02/21/08 | 73 FR 9463
NPRM | 02/21/08 | 73 FR 9507
Order | 05/15/08 | 73 FR 28057
Order | 07/29/09 | 74 FR 37624
R&O | 08/07/09 | 74 FR 39551
Public Notice | 10/14/09 | 74 FR 52808
Announcement of Effective Date | 03/19/10 | 75 FR 13235
Public Notice | 05/20/10 | 75 FR 28249
Public Notice | 06/11/10 | 75 FR 33303
Next Action Undetermined

Regulatory Flexibility Analysis Required: Yes.

Agency Contact: Tim Stelzig, Deputy Chief, Competition Policy Division, Federal Communications Commission, Wireline Competition Bureau, 445 12th Street SW., Washington, DC 20554, Phone: 202 418-0942, Email: tim.stelzig@fcc.gov.

RIN: 3060-AI48

509. Establishing Just and Reasonable Rates for Local Exchange Carriers (WC Docket No. 07-135)

Legal Authority: Not Yet Determined

Abstract: The Federal Communications Commission (Commission) is examining whether its existing rules governing the setting of tariffed rates by local exchange carriers (LECs) provide incentives and opportunities for carriers to increase access demand endogenously with the result that the tariff rates are no longer just and reasonable. The Commission tentatively concluded that it must revise its tariff rules so that it can be confident that tariffed rates remain just and reasonable even if a carrier experiences or induces significant increases in access demand. The Commission sought comment on the types of activities that are caused increases in interstate access demand and the effects of such demand increases on the cost structures of LECs. The Commission also sought comment on several means of ensuring just and reasonable rates going forward. The NPRM invited comment on potential traffic stimulation by rate-of-return LECs, price cap LECs, and competitive LECs, as well as other forms of intercarrier traffic stimulation. Comments were received on December 17, 2007, and reply comments were received on January 16, 2008.

On February 8, 2011, the Commission adopted a Further Notice of Proposed Rulemaking seeking comment on proposed rule revisions to address access stimulation. The Commission sought comment on a proposal to require rate-of-return LECs and competitive LECs to file revised tariffs if they enter into or have existing revenue sharing agreements. The proposed tariff filing requirements vary depending on the type of LEC involved. The Commission also sought comment on other record proposals and on possible rules for addressing access stimulation in the context of intra-MTA call terminations by CMRS providers. Comments were filed on April 1, 2011, and reply comments were filed on April 18, 2011.

In the USF/ICC Transformation Order, we defined access stimulation. The access stimulation definition we adopted has two conditions: (1) A revenue sharing condition; and (2) an additional traffic volume condition, which is met where the LEC either: (a) Has a three-to-one interstate terminating-to-originating traffic ratio in a calendar month; or (b) has had more than a 100 percent growth in interstate originating and/or terminating switched access minutes of use in a month compared to the same month in the preceding year. If both conditions are satisfied, the LEC generally must file revised tariffs to account for its increased traffic.

Timetable:

Action | Date | FR Cite
NPRM | 11/15/07 | 72 FR 64179
NPRM Comment Period End | 12/17/07 |
FNPRM | 03/02/11 | 76 FR 11632
R&O and FNPRM | 12/08/11 | 76 FR 76623
Next Action Undetermined

Regulatory Flexibility Analysis Required: Yes.

Agency Contact: Douglas Slotten, Attorney—Advisor, Federal Communications Commission, Wireline Competition Bureau, 445 12th Street SW., Washington, DC 20554, Phone: 202 418-1572, Email: douglas.slotten@fcc.gov.

RIN: 3060-AJ02

510. Jurisdictional Separations

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and market changes warrant comprehensive reform of the separations process. In 2001, the Commission adopted the Federal-State Joint Board on Jurisdictional Separations' recommendation to impose an interim freeze of the part 36 category relationships and jurisdictional cost allocation factors for a period of five years, pending comprehensive reform of the part 36 separations rules. In 2006, the Commission adopted an Order and Further Notice of Proposed Rulemaking, which extended the separations freeze for a period of three years and sought comment on comprehensive reform. In 2009, the Commission adopted a Report and Order extending the separations freeze an additional year to June 2010. In 2010, the Commission adopted a Report and Order extending the separations freeze for an additional year to June 2011. In 2011, the Commission adopted a Report and Order extending the separations freeze for an additional year to June 2012.

The Commission is considering a Further Notice of Proposed Rulemaking regarding extending the separations freeze for an additional two years to June 2014.

Timetable:

Action | Date | FR Cite
NPRM | 11/05/97 | 62 FR 59842
NPRM Comment Period End | 12/10/97 |
Order | 06/21/01 | 66 FR 33202
Order and FNPRM | 05/26/06 | 71 FR 29882
Order and FNPRM Comment Period End | 08/22/06 |
Report and Order | 05/15/09 | 74 FR 23955
R&O | 05/25/10 | 75 FR 30301
R&O | 05/27/11 | 76 FR 30840
Next Action Undetermined

Regulatory Flexibility Analysis Required: Yes.

Agency Contact: Ted Burmeister, Federal Communications Commission, 445 12th Street SW., Washington, DC 20554, Phone: 202 418-7389, Email: theodore.burmeister@fcc.gov.

RIN: 3060-AJ06

511. Service Quality, Customer Satisfaction, Infrastructure and Operating Data Gathering (WC Docket Nos. 08-190, 07-139, 07-204, 07-273, 07-21)

Legal Authority: 47 U.S.C. 151 to 155; 47 U.S.C. 160 and 161; 47 U.S.C. 20 to 205; 47 U.S.C. 215; 47 U.S.C. 218 to 220; 47 U.S.C. 251 to 271; 47 U.S.C. 303(r) and 332; 47 U.S.C. 403; 47 U.S.C. 502 and 503

Abstract: This NPRM tentatively proposes to collect infrastructure and operating data that is tailored in scope to be consistent with Commission objectives from all facilities-based providers of broadband and telecommunications. Similarly, the NPRM also tentatively proposes to collect data concerning service quality and customer satisfaction from all facilities-based providers of broadband and telecommunications. The NPRM seeks comment on the proposals, on the specific information to be collected, and on the mechanisms for collecting information.

Timetable:

Action | Date | FR Cite
NPRM | 10/15/08 | 73 FR 60997
NPRM Comment Period End | 11/14/08 |
Reply Comment Period End | 12/15/08 |
NPRM | 02/28/11 | 76 FR 12308
NPRM Comment Period End | 03/30/11 |
Reply Comment Period End | 04/14/11 |
Next Action Undetermined

Regulatory Flexibility Analysis Required: Yes.

Agency Contact: Cathy Zima, Deputy Chief, Industry Analysis Div., WCB, Federal Communications Commission, Wireline Competition Bureau, 445 12th Street SW., Washington, DC 20554, Phone: 202 418-7380, Fax: 202 418-6768, Email: cathy.zima@fcc.gov.

RIN: 3060-AJ14

512. Form 477; Development of Nationwide Broadband Data To Evaluate Reasonable and Timely Deployment of Advanced Services to All Americans

Legal Authority: 15 U.S.C. 251; 47 U.S.C. 252; 47 U.S.C. 257; 47 U.S.C. 271; 47 U.S.C. 1302; 47 U.S.C. 160(b); 47 U.S.C. 161(a)(2)

Abstract: The NPRM seeks comment on streamlining and reforming the Commission's Form 477 Data Program which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Next Action Undetermined

Regulatory Flexibility Analysis Required: Yes.

Agency Contact: Carol Simpson, Deputy Chief, Policy Division, Federal Communications Commission, Public Safety and Homeland Security Bureau, 445 12th Street SW., Washington, DC 20554, Phone: 202 418-2391, Fax: 202 418-2816, Email: carol.simpson@fcc.gov.

RIN: 3060-AJ15

513. Preserving the Open Internet; Broadband Industry Practices

Legal Authority: 47 U.S.C. 151; 47 U.S.C. 152; 47 U.S.C. 154 (i)-(j); 47 U.S.C. 201(b)

Abstract: In 2009, the FCC launched a public process to determine whether and what actions might be necessary to preserve the characteristics that have allowed the Internet to grow into an indispensable platform supporting our nation's economy and civic life. After receiving input from more than 100,000 individuals and organizations and several public workshops, this process has made clear that the Internet has thrived because of its freedom and openness—the absence of any gatekeeper blocking lawful uses of the network or picking winners and losers online. The Open Internet Order builds on the bipartisan Internet Policy Statement the Commission adopted in 2005. The Order requires that all broadband providers are required to be transparent by disclosing their network management practices, performance, and commercial terms; fixed providers may not block lawful content, applications, services, or non-harmful devices; fixed providers may not unreasonably discriminate in transmitting lawful network traffic; mobile providers may not block access to lawful Web sites, or applications that compete with their voice or video telephony services; and all providers may engage in “reasonable network management,” such as managing the network to address congestion or security issues. The rules do not prevent broadband providers from offering specialized services, such as facilities-based VoIP; do not prevent providers from blocking unlawful content or unlawful transfers of content; and do not supersede any obligation or authorization a provider may have to address the needs of emergency communications or law enforcement, public safety, or national security authorities.

Timetable:

Action | Date | FR Cite
NPRM | 11/30/09 | 74 FR 62638
NPRM Comment Period End | 04/26/10 |
Public Notice | 09/10/10 | 75 FR 55297
Comment Period End | 11/04/10 |
Order | 09/23/11 | 76 FR 59192
OMB Approval Notice | 09/21/11 | 76 FR 58512
Rules Effective | 11/20/11 |
Public Notice Petition for Recon | 11/14/11 | 76 FR 74721
Comment Period End | 12/27/11 |
Next Action Undetermined

Regulatory Flexibility Analysis Required: Yes.

Agency Contact: R. Matthew Warner, Attorney Advisor, Federal Communications Commission, 445 12th Street SW., Washington, DC 20554, Phone: 202 418-2419, Email: matthew.warner@fcc.gov.

RIN: 3060-AJ30

514. Local Number Portability Porting Interval and Validation Requirements (WC Docket No 07-244)

Legal Authority: 47 U.S.C. 151; 47 U.S.C. 154(i); 47 U.S.C. 154(j); 47 U.S.C. 251; 47 U.S.C. 303(r)

Abstract: In 2007, the Commission released a Notice of Proposed Rulemaking in WC Docket No. 07-244. The Notice sought comment on whether the Commission should adopt rules specifying the length of the porting intervals or other details of the porting process. It also tentatively concluded that the Commission should adopt rules reducing the porting interval for wireline-to-wireline and intermodal simple port requests, specifically, to a 48-hour porting interval.

In the Local Number Portability Porting Interval and Validation Requirements First Report and Order and Further Notice of Proposed Rulemaking, released on May 13, 2009, the Commission reduced the porting interval for simple wireline and simple intermodal port requests, requiring all entities subject to its local number portability (LNP) rules to complete simple wireline-to-wireline and simple intermodal port requests within one business day. In a related Further Notice of Proposed Rulemaking (FNPRM), the Commission sought comment on what further steps, if any, the Commission should take to improve the process of changing providers.

In the LNP Standard Fields Order, released on May 20, 2010, the Commission adopted standardized data fields for simple wireline and intermodal ports. The Order also adopts the NANC's recommendations for porting process provisioning flows and for counting a business day in the context of number porting.

Timetable:

Action | Date | FR Cite
NPRM | 02/21/08 | 73 FR 9507
R&O and FNPRM | 07/02/09 | 74 FR 31630
R&O | 06/22/10 | 75 FR 35305
Next Action Undetermined

Regulatory Flexibility Analysis Required: Yes.

Agency Contact: Melissa Kirkel, Attorney—Advisor, WCB, Federal Communications Commission, 445 12th Street SW., Washington, DC 20554, Phone: 202 418-7958, Fax: 202 418-1413, Email: melissa.kirkel@fcc.gov.

RIN: 3060-AJ32

515. Electronic Tariff Filing System (ETFS); WC Docket No. 10-141

Legal Authority: 47 U.S.C. 151 and 154; 47 U.S.C. 201 to 205; 47 U.S.C. 218 and 222; 47 U.S.C. 225 to 226; 47 U.S.C. 228 and 254; 47 U.S.C. 403

Abstract: Section 402(b)(1)(A)(iii) of the Telecommunications Act of 1996 added section 204(a)(3) to the Communications Act of 1934, as amended, providing for streamlined tariff filings by local exchange carriers. On September 6, 1996, in an effort to meet the goals of the 1996 Act, the Commission released the Tariff Streamlining NPRM, proposing measures to implement the tariff streamlining requirements of section 204(a)(3). Among other suggestions, the Commission proposed requiring LECs to file tariffs electronically.

The Commission began implementing the electronic filing of tariffs on January 31, 1997, when it released the Streamlined Tariff Order. On November 17, 1997, the Bureau made this electronic system, known as the Electronic Tariff Filing System, available for voluntary filing by incumbent LECs. The Bureau also announced that the use of ETFS would become mandatory for all incumbent LECs in 1998.

On May 28, 1998, in the ETFS Order, the Bureau established July 1, 1998, as the date after which incumbent LECs would be required to use ETFS to file tariffs and associated documents. The Commission deferred consideration of establishing mandatory electronic filing for non-incumbent LECs until the conclusion of a proceeding considering the mandatory detariffing of interstate long distance services.

On June 9, 2011, the Commission adopted rule revisions to require all tariff filiers to file tariffs using ETFS. Carriers were given a 60 day window in order to make their initial filings on ETFS. On October 13, 2011, the Commission announced that all tariff filiers should file their initial Base Document and/or Informational Tariff using the ETFS between November 17, 2011 and January 17, 2012. After January 17, 2012, all carriers would be required to use ETFS on a going forward basis to file their tariff documents.

Timetable:

Action | Date | FR Cite
NPRM | 08/11/10 | 75 FR 48629
NPRM Comment Period End | 09/10/10 |
NPRM Reply Comment Period End | 09/27/10 |
Report and Order | 07/20/11 | 76 FR 43206
Next Action Undetermined

Regulatory Flexibility Analysis Required: Yes.

Agency Contact: Pamela Arluk, Attorney Advisor, Federal Communications Commission, 445 12th Street SW., Washington, DC 20554, Phone: 202 418-1540, Email: pamela.arluk@fcc.gov.

RIN: 3060-AJ41

516. Implementation of Section 224 of the Act; A National Broadband Plan for Our Future; WC Docket No. 07-245, GN Docket No. 09-51

Legal Authority: 47 U.S.C. 151; 47 U.S.C. 154(i0; 47 U.S.C. 154(j); 47 U.S.C. 224

Abstract: In 2010, the Commission released an Order and Further Notice of Proposed Rulemaking which implemented certain pole attachment recommendations of the National Broadband Plan and sought comment with regard to others. On April 7, 2011, the Commission adopted a Report and Order and Order on Reconsideration that sets forth a comprehensive regulatory scheme for access to poles, and modifies existing rules for pole attachment rates and enforcement.

Timetable:

Action | Date | FR Cite
NPRM | 02/06/08 | 73 FR 6879
FNPRM | 07/15/10 | 75 FR 41338
Declaratory Ruling | 08/03/10 | 75 FR 45494
R&O | 05/09/11 | 76 FR 26620
Next Action Undetermined |  |

Regulatory Flexibility Analysis Required: Yes.

Agency Contact: Jonathan Reel, Attorney Advisor, Federal Communications Commission, Wireline Competition Bureau, 445 12th Street SW., Washington, DC 20554, Phone: 202 418-0637, Email: jonathan.reel@fcc.gov.

RIN: 3060-AJ64

[FR Doc. 2012-31514 Filed 1-7-13; 8:45 am]

BILLING CODE 6712-01-P